POSTAL SERVICE

Change in Rates and Classes of General Applicability for Competitive Products

AGENCY: Postal Service.

ACTION: Notice of a change in rates of general applicability for competitive products.

SUMMARY: This notice sets forth changes in rates of general applicability for competitive products.

DATES: Effective Date: January 27, 2013.

FOR FURTHER INFORMATION CONTACT: Daniel J. Foucheaux, Jr., 202-268-2989.

SUPPLEMENTARY INFORMATION: On September 13, 2012, pursuant to their authority under 39 U.S.C. 3632, the Governors of the Postal Service established prices and classification changes for competitive products. The Governors' Decision and the record of proceedings in connection with such decision are reprinted below in accordance with section 3632(b)(2).

Stanley F. Mires,
Attorney, Legal Policy & Legislative Advice.

Decision of the Governors of the United States Postal Service on Changes in Rates and Classes of General Applicability for Competitive Products (Governors' Decision No. 12-2)

September 13, 2012

Statement of Explanation and Justification

Pursuant to our authority under section 3632 of title 39, as amended by the Postal Accountability and Enhancement Act of 2006 (“PAEA”), we establish new prices of general applicability for the Postal Service's shipping services (competitive products), and such changes in classifications as are necessary to define the new prices. The changes are described generally below, with a detailed description of the changes in the attachment. The attachment includes the draft Mail Classification Schedule sections with changes in classification language in legislative format, and new prices displayed in the price charts.

As shown in the nonpublic annex being filed under seal herewith, the changes we establish should enable each competitive product to cover its attributable costs (39 U.S.C. 3633(a)(2)) and should result in competitive products as a whole complying with 39 U.S.C. 3633(a)(3), which, as implemented by 39 CFR 3015.7(c), requires competitive products to contribute a minimum of 5.5 percent to the Postal Service's institutional costs. Accordingly, no issue of subsidization of competitive products by market dominant products should arise (39 U.S.C. 3633(a)(1)). We therefore find that the new prices and classification changes are in accordance with 39 U.S.C. 632-3633 and 39 CFR 3015.2.

I. Domestic Products

A. Express Mail

Overall, the Express Mail price change represents a 5.8 percent increase. The existing structure of zoned Retail, Commercial Base and Commercial Plus price categories is maintained.

Retail prices will increase an average of 6.5 percent. The price for the Retail Flat Rate Envelope and Legal Flat Rate Envelope, a significant portion of all Express Mail volume, is increasing 5.3 percent to $19.95. Additionally, the price for the recently-introduced Padded Flat Rate Envelope is increasing to $19.95.

The Commercial Base price category offers lower prices to customers who use online and other authorized postage payment methods. The Commercial Base prices will increase 2.0 percent.

The Commercial Plus price category offers even lower prices to large-volume customers. Commercial Plus prices, as a whole, will receive a 1.0 percent increase.

B. Priority Mail

Overall, Priority Mail prices will increase by 6.3 percent. However, the price increase varies by rate cell and price tier. The existing structure of Retail, Commercial Base, and Commercial Plus price categories is maintained.

Retail prices will increase an average of 9.0 percent. However, approximately three percent of the increase is for free tracking visibility which will now be included at no charge. Flat Rate Box prices will be: Small, $5.80; Medium, $12.35; Large, $16.85; and Large APO/FPO/DPO, $14.85. The regular Flat Rate Envelope will be priced at $5.60, with the Legal Size and Padded Flat Rate Envelopes priced at $5.75 and $5.95, respectively.

The Commercial Base price category offers lower prices to customers using online and other authorized postage payment methods. The average price increase for Commercial Base will be 3.7 percent.

The Commercial Plus price category offers even lower prices to large-volume customers. The average price increase for Commercial Plus will be 3.8 percent. This price category will continue to contain Critical Mail letters and flats, a half pound price, an assortment of Flat Rate packaging, and Commercial Plus Cubic pricing. New for January, Critical Mail letters and flats will each have the option of receiving a signature upon delivery. The letter option will be priced at $4.60; the flat option at $5.35. Cubic mailers will continue to be able to use soft packaging as well as traditional boxes.

C. Parcel Select

On average, prices for Parcel Select, the Postal Service's bulk ground shipping product, will increase 9.0 percent. For destination entered parcels, the average price increases are 8.0 percent for parcels entered at a destination delivery unit (DDU), 4.9 percent for parcels entered at a destination plant (DSCF) and 4.8 percent for parcels entered at a destination Network Distribution Center (DNDC).

For nondestination-entered parcels, the average price increases are 5.7 percent for origin Network Distribution Center (ONDC) presort, 4.3 percent for Network Distribution Center (NDC) presort, and 4.2 percent for nonpresort. Prices for Lightweight Parcel Select, formerly Standard Mail commercial parcels, will increase by 9.8 percent. The Regional Ground category will be eliminated due to insufficient volume.

D. Parcel Return Service

Parcel Return Service prices will have an overall price increase of 4.8 percent. Prices for parcels retrieved at a return Network Distribution Center (RNDC) will have a 1.0 percent overall increase, and prices for parcels picked up at a return delivery unit (RDU) will increase 8.5 percent. Additionally, the Postal Service will be introducing a full network return solution, Full Network PRS, available to high volume mailers with at least 50 thousand pieces annually.

E. First-Class Package Service

First-Class Package Service was transferred to the competitive product list on April 6, 2011. This product is positioned as a lightweight (less than one pound) offering used by businesses for fulfillment purposes. Overall, Commercial First-Class Package Service prices will increase 3.0 percent, with no structural changes.

F. Parcel Post, Renamed Standard Post

On July 20, 2012, in Docket No. MC2012-13, the Postal Regulatory Commission (PRC) gave conditional approval for Parcel Post to be transferred to the competitive product list. The conditions were: (1) That the Postal Service files a notice of competitive price adjustment for Parcel Post rates that demonstrates that the rates satisfy 39 U.S.C. 3633(a) and 39 CFR part 3015 (i.e. that Parcel Post will have 100 percent cost coverage); (2) that the Commission issues an order finding that the rates satisfy 39 U.S.C. 3633(a) and 39 CFR part 3015; and (3) that the Parcel Post transfer authorized by the Commission will not take effect until the effective date of the rates authorized in the subsequent Order. A 21 percent increase in prices will be needed to meet this statutory requirement to achieve 100 percent cost coverage. The transferred product will be renamed Standard Post.

G. Domestic Extra Services

Premium Forwarding Service prices will increase 10.5 percent. The enrollment fee will remain unchanged at $15.00. The weekly reshipment fee will increase to $17.00. Address Enhancement Service prices will be increasing between 3.7 and 17.7 percent depending on the particular rate element, to ensure adequate cost coverage. Competitive Post Office Box prices will be increasing 2.6 percent, which is within the existing price range. Package Intercept service, established January 22, 2012, will not have a change in prices. The Pick-up On Demand fee will be increased from $15.30 to $20.00, its first increase in four years. New for January, customers ordering flat rate packaging supplies online will be able to pay a fee to get supplies delivered faster than the current free service provided by shipping the supplies using Standard Post or Bound Printed Matter. This service will be priced at $2.50, and a price range will be established similar to other items in this category.

II. International Products

A. Expedited Services

International expedited services include Global Express Guaranteed (GXG) and Express Mail International (EMI). Overall, GXG prices will rise by 9.6 percent, and EMI will be subject to an overall 13.2 percent increase. The existing structure of GXG Retail, Commercial Base, and Commercial Plus price categories is maintained, as well as the existing structure of EMI Flat Rate, Retail, Commercial Base and Commercial Plus. Classification changes include a change in the maximum weight of the EMI Flat Rate Envelope from 20 pounds to 4 pounds. In addition, the Pickup On Demand Service fee will increase, as previously described in the Domestic Extra Services section of this decision. Further, the Postal Service may offer one or more promotions in the form of a discount or rebate on certain GXG and EMI items, during an established promotional program period, to mailers that comply with the eligibility requirements of the promotional program.

Customers tendering at least $100,000 in revenue per year for not only GXG, EMI, Priority Mail International (PMI), but also First-Class Package International Service may request authorization for Commercial Plus discounts.

B. Priority Mail International

The overall increase for Priority Mail International (PMI) will be 15.1 percent. The existing structure of PMI Flat Rate, Retail, Commercial Base, and Commercial Plus price categories is maintained, Classification changes include the availability of Electronic USPS Delivery Confirmation® International, which is optionally provided at no charge and offers scan events for customers using select software or online tools. It is available for certain Priority Mail International Flat Rate Envelopes and Small Flat Rate Box offerings to select destinations. In addition, the Pickup On Demand Service fee will increase, as previously described in the Domestic Extra Services section of this decision. Further, the Postal Service may offer one or more promotions in the form of a discount or rebate on certain PMI items, during an established promotional program period, to mailers that comply with the eligibility requirements of the promotional program.

Customers tendering at least $100,000 in revenue per year for not only GXG, EMI, PMI, but also First-Class Package International Service, may request authorization for Commercial Plus discounts.

C. International Priority Airmail and International Surface Air Lift

Published prices International Priority Airmail (IPA) will increase by 1.9 percent, and International Surface Air Lift (ISAL) prices will increase by 4.4 percent.

D. Airmail M-Bags

The published prices for Airmail M-Bags will increase by 7.3 percent.

E. First-Class Package International Service™

On August 10, 2012, the Postal Service filed with the Postal Regulatory Commission (PRC) a request to transfer First-Class Mail International packages and rolls from the market dominant product list to the competitive product list. On September 10, 2012, the PRC granted the Postal Service's request. The new product will be identified as First-Class Package International ServiceTM (FCPIS), which will comprise packages and rolls. Due to anticipated cost increases and market conditions, a 58.6 percent increase is planned for the new product.

Additionally, Electronic USPS Delivery Confirmation® International, which is optionally provided at no charge, offers scan events for customers using select software or online tools. It is available for FCPIS mailpieces meeting certain physical characteristics to select destinations. Further, the Postal Service will offer Commercial Base and Commercial Plus discounts to eligible FCPIS customers. Customers tendering at least $100,000 in revenue per year for GXG, EMI, PMI and First-Class Package International Service may request authorization for Commercial Plus discounts. Further, the Postal Service may offer one or more promotions in the form of a discount or rebate on certain Outbound Single-Piece First-Class Package International Service items, during an established promotional period, to mailers that comply with the eligibility requirements of the promotional program.

F. International Ancillary Services and Special Services

Prices for several international ancillary services and paper money orders will be increased. Certificates of Mailing will increase 4.3 percent. Registered Mail will increase 10.2 percent. International Return Receipt will also increase, and International Postal Money Orders will increase 1.1 percent. The amount of Express Mail International merchandise insurance coverage available for no fee will be increased from $100 to $200. Due to the elimination of the $0.85 fee for the EMI $100.01-$200 merchandise insurance coverage tier, the overall increase for the international ancillary services is zero percent.

Because of low customer demand, International Restricted Delivery will be removed from the competitive product list. The Postal Service intends to file a separate request, pursuant to 39 U.S.C. 3642, to remove International Restricted Delivery from the competitive product list.

Order

The changes in prices and classes set forth herein shall be effective at 12:01 a.m. on January 27, 2013. We direct the Secretary to have this decision published in the Federal Register in accordance with 39 U.S.C. 3632(b)(2). We also direct management to file with the Postal Regulatory Commission appropriate notice of these changes.

Further, Postal management is directed to provide the required public notice and to file with the Postal Regulatory Commission a request to remove International Restricted Delivery from the competitive product list of the Mail Classification Schedule, including any supporting documents, in accordance with 39 CFR part 3020.

By The Governors.

Thurgood Marshall, Jr.

Chairman

Part B—Competitive Products

2000 Competitive Product List

* * * * *

2001 Competitive Product Descriptions

* * * * *

2100 Domestic Products

* * * * *

2105 Express Mail

* * * * *

2105.6 Prices

Retail Express Mail Zone/Weight
Maximum weight (pounds) | Zones 1 & 2 | Zone 3 | Zone 4 | Zone 5 | Zone 6 | Zone 7 | Zone 8
| ($) | ($) | ($) | ($) | ($) | ($) | ($)
0.5 | 14.10 | 20.85 | 23.25 | 25.25 | 27.05 | 28.70 | 30.60
1 | 16.05 | 23.50 | 28.30 | 31.70 | 32.85 | 34.85 | 35.90
2 | 18.10 | 25.05 | 30.85 | 34.55 | 35.95 | 38.10 | 39.40
3 | 21.55 | 26.25 | 34.70 | 39.75 | 41.45 | 43.90 | 45.15
4 | 22.95 | 27.95 | 37.00 | 44.95 | 46.70 | 49.45 | 50.80
5 | 24.85 | 31.40 | 39.45 | 48.10 | 52.50 | 55.00 | 56.50
6 | 26.40 | 35.95 | 45.75 | 54.65 | 57.50 | 60.45 | 62.30
7 | 28.60 | 39.40 | 52.40 | 59.75 | 62.45 | 66.05 | 68.40
8 | 30.85 | 43.25 | 56.75 | 64.30 | 67.80 | 71.70 | 73.65
9 | 33.05 | 44.95 | 58.90 | 68.75 | 73.05 | 77.25 | 79.30
10 | 35.50 | 46.85 | 61.15 | 71.85 | 76.85 | 81.20 | 83.25
11 | 37.50 | 52.40 | 68.30 | 76.80 | 80.55 | 85.10 | 87.25
12 | 39.50 | 56.10 | 72.55 | 80.85 | 84.20 | 88.95 | 91.10
13 | 41.80 | 59.70 | 75.90 | 84.55 | 87.75 | 92.65 | 96.40
14 | 43.70 | 63.40 | 78.90 | 87.85 | 91.40 | 96.50 | 100.40
15 | 45.15 | 66.95 | 82.25 | 91.55 | 95.15 | 100.40 | 104.40
16 | 47.10 | 70.75 | 85.50 | 95.10 | 99.25 | 104.70 | 107.90
17 | 48.90 | 74.45 | 88.70 | 98.60 | 102.60 | 108.15 | 110.95
18 | 50.90 | 77.95 | 91.85 | 102.05 | 106.20 | 111.95 | 114.90
19 | 52.70 | 81.65 | 95.00 | 105.50 | 109.85 | 115.75 | 118.75
20 | 54.95 | 85.35 | 99.70 | 110.65 | 114.15 | 120.25 | 124.05
21 | 56.20 | 90.70 | 102.85 | 114.15 | 119.20 | 125.50 | 128.70
22 | 58.30 | 94.45 | 107.35 | 119.10 | 122.95 | 129.40 | 133.65
23 | 60.00 | 98.10 | 110.50 | 122.55 | 126.75 | 133.35 | 137.55
24 | 62.20 | 101.85 | 114.10 | 126.45 | 130.55 | 137.35 | 140.60
25 | 64.70 | 105.65 | 116.85 | 129.40 | 134.10 | 141.00 | 145.00
26 | 66.15 | 109.40 | 120.20 | 133.10 | 137.90 | 144.95 | 149.10
27 | 68.05 | 113.00 | 123.35 | 136.50 | 141.50 | 148.70 | 153.05
28 | 69.45 | 116.80 | 127.30 | 140.80 | 145.20 | 152.55 | 157.05
29 | 71.60 | 120.45 | 131.45 | 145.35 | 148.95 | 156.40 | 160.90
30 | 73.60 | 124.20 | 135.60 | 149.85 | 153.25 | 160.90 | 166.00
31 | 75.40 | 127.90 | 139.70 | 154.35 | 158.10 | 165.90 | 171.25
32 | 77.45 | 131.80 | 143.90 | 158.85 | 162.70 | 170.70 | 176.35
33 | 79.85 | 135.45 | 148.05 | 163.35 | 167.45 | 175.60 | 181.40
34 | 82.15 | 139.05 | 152.30 | 168.00 | 172.10 | 180.40 | 186.45
35 | 84.25 | 142.85 | 156.30 | 172.30 | 176.70 | 185.20 | 191.55
36 | 86.40 | 146.60 | 160.55 | 176.90 | 181.55 | 190.20 | 196.70
37 | 88.25 | 150.25 | 164.65 | 181.35 | 186.35 | 195.15 | 201.85
38 | 90.35 | 154.05 | 168.85 | 185.90 | 190.95 | 199.95 | 206.85
39 | 92.60 | 157.80 | 173.05 | 190.40 | 195.45 | 204.55 | 212.00
40 | 94.55 | 161.40 | 177.30 | 195.00 | 200.20 | 209.45 | 217.15
41 | 96.40 | 165.20 | 181.40 | 199.40 | 205.05 | 214.50 | 222.25
42 | 98.15 | 169.00 | 185.55 | 203.90 | 209.85 | 219.45 | 227.30
43 | 100.40 | 172.60 | 189.65 | 208.30 | 214.50 | 224.20 | 232.45
44 | 102.20 | 176.40 | 193.85 | 212.80 | 219.15 | 229.00 | 237.50
45 | 104.15 | 180.20 | 197.90 | 217.15 | 223.85 | 233.85 | 242.70
46 | 106.25 | 183.75 | 202.30 | 221.85 | 228.50 | 238.60 | 247.75
47 | 108.45 | 187.55 | 206.40 | 226.25 | 233.20 | 243.45 | 252.85
48 | 110.30 | 191.35 | 210.45 | 230.55 | 237.95 | 248.30 | 257.95
49 | 112.25 | 194.95 | 214.65 | 235.05 | 242.80 | 253.30 | 263.10
50 | 114.65 | 198.75 | 218.90 | 239.65 | 247.30 | 257.90 | 268.15
51 | 116.70 | 202.55 | 223.00 | 244.00 | 251.95 | 262.65 | 272.55
52 | 118.70 | 206.10 | 227.10 | 248.40 | 256.80 | 267.60 | 278.45
53 | 120.60 | 209.90 | 231.35 | 252.85 | 261.55 | 272.45 | 283.55
54 | 122.75 | 213.70 | 235.45 | 257.20 | 266.25 | 277.30 | 288.60
55 | 125.20 | 218.60 | 239.75 | 261.80 | 270.90 | 282.00 | 293.65
56 | 127.80 | 222.40 | 243.80 | 266.10 | 275.55 | 286.80 | 298.80
57 | 130.05 | 226.15 | 248.00 | 270.55 | 280.25 | 291.60 | 303.90
58 | 132.25 | 229.75 | 252.10 | 274.90 | 285.00 | 296.40 | 309.00
59 | 134.05 | 233.45 | 256.25 | 279.30 | 289.80 | 301.30 | 314.10
60 | 135.85 | 237.20 | 260.40 | 283.70 | 294.45 | 306.05 | 319.20
61 | 137.80 | 241.00 | 264.75 | 288.30 | 299.15 | 310.80 | 324.30
62 | 139.95 | 244.65 | 268.80 | 292.55 | 303.80 | 315.50 | 329.50
63 | 142.25 | 248.35 | 272.95 | 296.95 | 308.55 | 320.40 | 334.65
64 | 144.15 | 252.05 | 277.10 | 301.30 | 313.30 | 325.20 | 339.75
65 | 146.60 | 255.80 | 281.20 | 305.65 | 317.95 | 329.90 | 344.75
66 | 149.35 | 259.60 | 285.50 | 310.15 | 322.65 | 334.70 | 349.80
67 | 151.10 | 263.25 | 289.70 | 314.55 | 327.25 | 339.30 | 354.95
68 | 153.10 | 267.00 | 293.80 | 318.85 | 332.15 | 344.30 | 360.20
69 | 155.50 | 270.75 | 297.95 | 323.20 | 336.70 | 348.90 | 365.05
70 | 158.35 | 274.50 | 302.15 | 327.60 | 341.45 | 353.70 | 370.20

Retail Flat Rate Envelope
| ($)
Retail Regular Flat Rate Envelope, per piece | 19.95
Retail Legal Flat Rate Envelope, per piece | 19.95
Retail Padded Flat Rate Envelope, per piece | 19.95

Retail Flat Rate Box
| ($)
Retail Flat Rate Box, per piece | 39.95

Commercial Base Zone/Weight
Maximum weight (pounds) | Zones 1 & 2 | Zone 3 | Zone 4 | Zone 5 | Zone 6 | Zone 7 | Zone 8
| ($) | ($) | ($) | ($) | ($) | ($) | ($)
0.5 | 13.09 | 16.99 | 20.42 | 23.23 | 25.22 | 26.95 | 27.68
1 | 15.13 | 16.99 | 20.42 | 23.23 | 25.22 | 26.95 | 27.68
2 | 15.58 | 17.25 | 22.98 | 25.71 | 28.51 | 29.93 | 31.36
3 | 15.94 | 18.47 | 25.44 | 28.48 | 31.59 | 32.64 | 33.81
4 | 16.30 | 19.36 | 27.58 | 31.16 | 34.48 | 35.54 | 36.94
5 | 16.65 | 20.16 | 30.17 | 34.08 | 37.40 | 38.49 | 39.87
6 | 16.93 | 21.84 | 33.47 | 37.65 | 41.52 | 42.49 | 44.29
7 | 17.51 | 22.93 | 35.78 | 40.46 | 44.45 | 45.48 | 47.05
8 | 18.02 | 24.06 | 38.09 | 43.04 | 47.41 | 48.67 | 50.07
9 | 18.66 | 24.94 | 40.26 | 45.82 | 50.39 | 51.85 | 53.29
10 | 19.32 | 24.97 | 42.12 | 48.23 | 53.05 | 54.52 | 57.32
11 | 20.00 | 27.38 | 44.34 | 50.82 | 56.32 | 58.13 | 59.49
12 | 20.83 | 28.51 | 46.72 | 53.19 | 59.10 | 61.28 | 62.68
13 | 21.37 | 29.57 | 48.94 | 55.62 | 61.46 | 64.53 | 65.71
14 | 21.99 | 30.70 | 51.47 | 57.97 | 63.86 | 67.34 | 68.93
15 | 22.62 | 31.52 | 53.21 | 60.31 | 66.35 | 71.96 | 73.98
16 | 23.40 | 32.89 | 55.77 | 62.56 | 68.40 | 72.92 | 74.91
17 | 24.14 | 34.83 | 58.78 | 64.53 | 69.95 | 73.75 | 75.78
18 | 25.02 | 35.97 | 60.56 | 65.90 | 71.51 | 74.55 | 76.92
19 | 25.81 | 36.93 | 61.97 | 67.31 | 73.14 | 76.20 | 78.95
20 | 26.67 | 37.40 | 63.56 | 68.93 | 74.73 | 77.98 | 80.76
21 | 28.52 | 41.60 | 69.49 | 75.64 | 81.62 | 85.12 | 88.80
22 | 29.34 | 42.52 | 71.16 | 77.34 | 83.32 | 87.10 | 90.70
23 | 30.31 | 43.40 | 72.87 | 79.24 | 85.26 | 88.97 | 92.84
24 | 31.12 | 44.16 | 74.80 | 81.25 | 87.53 | 90.91 | 94.75
25 | 31.85 | 44.40 | 76.71 | 82.92 | 89.10 | 93.02 | 96.60
26 | 32.59 | 46.10 | 78.82 | 84.96 | 92.24 | 95.66 | 98.90
27 | 33.40 | 46.98 | 80.75 | 87.39 | 94.78 | 97.56 | 100.59
28 | 34.15 | 48.00 | 82.89 | 89.90 | 96.72 | 99.49 | 102.73
29 | 34.92 | 48.81 | 84.99 | 91.80 | 98.79 | 101.66 | 104.90
30 | 35.56 | 48.84 | 86.70 | 93.91 | 101.05 | 104.02 | 106.03
31 | 36.41 | 50.64 | 88.56 | 96.05 | 102.80 | 105.71 | 109.18
32 | 37.45 | 51.81 | 90.51 | 98.19 | 104.90 | 107.84 | 111.25
33 | 38.32 | 53.12 | 92.24 | 100.30 | 107.04 | 110.25 | 113.79
34 | 39.15 | 53.92 | 94.35 | 102.43 | 109.34 | 112.62 | 116.17
35 | 39.99 | 54.92 | 96.45 | 104.56 | 111.45 | 114.99 | 118.44
36 | 40.70 | 55.80 | 98.52 | 106.67 | 113.62 | 117.53 | 120.74
37 | 41.36 | 57.40 | 100.46 | 108.84 | 115.89 | 120.14 | 123.28
38 | 42.03 | 58.30 | 102.23 | 110.75 | 118.10 | 122.94 | 125.62
39 | 42.75 | 59.30 | 104.14 | 112.83 | 120.34 | 125.49 | 128.12
40 | 43.43 | 60.30 | 106.04 | 114.95 | 122.47 | 127.89 | 130.69
41 | 44.61 | 61.54 | 107.95 | 117.13 | 124.81 | 129.96 | 133.17
42 | 45.50 | 62.77 | 110.04 | 119.23 | 127.35 | 133.00 | 135.87
43 | 46.70 | 63.94 | 112.22 | 121.34 | 129.72 | 135.14 | 138.68
44 | 47.74 | 65.22 | 114.12 | 123.48 | 131.99 | 137.50 | 141.62
45 | 48.75 | 66.58 | 116.17 | 125.59 | 134.57 | 139.88 | 143.89
46 | 49.72 | 68.02 | 118.20 | 128.26 | 137.11 | 142.29 | 146.43
47 | 50.55 | 69.46 | 120.27 | 129.66 | 139.64 | 144.36 | 148.74
48 | 50.88 | 70.83 | 121.97 | 131.80 | 142.19 | 146.97 | 151.51
49 | 51.25 | 72.43 | 123.71 | 132.20 | 142.22 | 149.30 | 154.21
50 | 52.22 | 72.46 | 123.74 | 132.83 | 142.25 | 149.34 | 154.25
51 | 54.05 | 75.47 | 127.66 | 138.15 | 150.00 | 154.48 | 160.13
52 | 54.89 | 77.07 | 129.62 | 140.24 | 152.54 | 157.02 | 163.26
53 | 55.96 | 78.35 | 131.60 | 142.59 | 155.28 | 159.91 | 166.31
54 | 56.87 | 79.92 | 133.77 | 144.70 | 157.62 | 162.66 | 169.15
55 | 57.70 | 81.38 | 136.14 | 146.66 | 159.99 | 165.37 | 171.66
56 | 58.77 | 82.92 | 138.61 | 148.36 | 162.50 | 168.45 | 174.43
57 | 59.90 | 84.36 | 141.12 | 151.01 | 164.84 | 171.19 | 177.40
58 | 61.20 | 85.76 | 143.69 | 153.08 | 167.38 | 174.25 | 180.54
59 | 62.07 | 87.20 | 146.19 | 154.95 | 169.92 | 176.99 | 183.72
60 | 62.71 | 87.80 | 148.57 | 157.59 | 172.65 | 180.01 | 185.95
61 | 64.41 | 90.23 | 151.10 | 159.60 | 175.39 | 182.78 | 185.99
62 | 65.95 | 91.84 | 153.41 | 162.63 | 178.13 | 185.78 | 192.93
63 | 67.05 | 93.65 | 156.02 | 164.98 | 181.08 | 188.99 | 196.14
64 | 68.32 | 95.48 | 158.56 | 167.75 | 184.08 | 192.26 | 199.28
65 | 69.18 | 97.32 | 160.89 | 170.45 | 187.02 | 195.67 | 201.99
66 | 70.35 | 99.08 | 163.47 | 173.23 | 189.96 | 198.88 | 205.59
67 | 71.10 | 100.96 | 165.81 | 176.23 | 193.17 | 202.33 | 209.17
68 | 73.30 | 102.73 | 168.35 | 179.17 | 196.14 | 202.36 | 212.54
69 | 74.41 | 104.56 | 170.85 | 182.15 | 199.73 | 208.87 | 221.63
70 | 75.18 | 105.37 | 170.88 | 184.95 | 202.91 | 211.69 | 224.85

Commercial Base Flat Rate Envelope
| ($)
Commercial Base Regular Flat Rate Envelope, per piece | 18.11
Commercial Base Legal Flat Rate Envelope, per piece | 18.11
Commercial Base Padded Flat Rate Envelope, per piece | 18.11

Commercial Base Flat Rate Box
| ($)
Commercial Base Flat Rate Box, per piece | 39.95

Commercial Plus Zone/Weight
Maximum weight (pounds) | Zones 1 & 2 | Zone 3 | Zone 4 | Zone 5 | Zone 6 | Zone 7 | Zone 8
| ($) | ($) | ($) | ($) | ($) | ($) | ($)
0.5 | 11.16 | 13.00 | 15.82 | 16.93 | 17.19 | 17.87 | 18.13
1 | 11.82 | 15.62 | 18.63 | 20.69 | 21.12 | 21.41 | 24.93
2 | 12.53 | 16.87 | 21.91 | 24.43 | 26.91 | 28.67 | 29.79
3 | 13.30 | 18.26 | 25.16 | 28.16 | 30.06 | 32.28 | 33.29
4 | 14.19 | 19.15 | 27.27 | 30.81 | 34.09 | 35.14 | 36.31
5 | 15.07 | 19.93 | 29.83 | 33.70 | 36.98 | 38.06 | 39.33
6 | 15.74 | 21.59 | 33.10 | 37.22 | 41.05 | 41.77 | 43.55
7 | 16.43 | 22.67 | 35.38 | 40.00 | 43.95 | 44.97 | 46.52
8 | 17.15 | 23.79 | 37.67 | 42.56 | 46.88 | 48.12 | 49.51
9 | 17.89 | 24.67 | 39.81 | 45.31 | 49.82 | 51.27 | 52.69
10 | 18.58 | 24.70 | 41.65 | 47.69 | 52.46 | 53.91 | 56.68
11 | 19.48 | 27.07 | 43.84 | 50.25 | 55.69 | 57.48 | 58.83
12 | 20.31 | 28.19 | 46.20 | 52.59 | 58.44 | 60.59 | 61.98
13 | 21.00 | 29.24 | 48.39 | 55.00 | 60.77 | 63.80 | 64.97
14 | 21.74 | 30.36 | 50.89 | 57.32 | 63.15 | 66.58 | 68.15
15 | 22.18 | 31.17 | 52.61 | 59.63 | 65.44 | 68.68 | 70.68
16 | 22.85 | 32.52 | 55.14 | 61.86 | 67.63 | 70.53 | 72.51
17 | 23.58 | 34.44 | 58.12 | 63.80 | 69.17 | 72.10 | 74.11
18 | 24.57 | 35.56 | 59.89 | 65.16 | 70.71 | 73.71 | 76.06
19 | 25.20 | 36.52 | 61.28 | 66.55 | 72.32 | 75.35 | 78.06
20 | 26.13 | 36.98 | 62.85 | 68.15 | 73.89 | 77.11 | 79.86
21 | 27.85 | 41.13 | 68.71 | 74.79 | 80.70 | 84.17 | 87.80
22 | 28.89 | 42.05 | 70.36 | 76.47 | 82.39 | 86.12 | 89.69
23 | 29.78 | 42.91 | 72.05 | 78.36 | 84.31 | 87.97 | 91.80
24 | 30.50 | 43.67 | 73.97 | 80.34 | 86.55 | 89.89 | 93.69
25 | 31.41 | 43.90 | 75.85 | 81.99 | 87.44 | 90.06 | 95.93
26 | 32.03 | 45.58 | 77.93 | 84.01 | 91.21 | 94.41 | 97.61
27 | 32.83 | 46.45 | 79.85 | 86.41 | 93.72 | 96.47 | 99.47
28 | 33.48 | 47.47 | 81.96 | 88.89 | 95.64 | 98.38 | 101.58
29 | 34.22 | 48.26 | 84.04 | 90.77 | 97.68 | 100.52 | 103.73
30 | 34.88 | 48.29 | 85.73 | 92.86 | 97.71 | 102.44 | 104.42
31 | 35.75 | 50.08 | 87.57 | 94.97 | 101.65 | 104.52 | 107.96
32 | 37.03 | 51.23 | 89.50 | 97.09 | 103.73 | 106.64 | 110.00
33 | 37.89 | 52.52 | 91.21 | 99.17 | 105.84 | 109.01 | 112.52
34 | 38.71 | 53.32 | 93.29 | 101.28 | 108.12 | 111.36 | 114.87
35 | 39.54 | 54.31 | 95.37 | 103.39 | 110.20 | 113.71 | 117.11
36 | 40.14 | 55.17 | 97.42 | 105.48 | 112.35 | 116.22 | 119.39
37 | 40.90 | 56.75 | 99.34 | 107.62 | 114.59 | 118.79 | 121.90
38 | 41.56 | 57.65 | 101.09 | 109.51 | 116.78 | 121.56 | 124.21
39 | 42.10 | 58.64 | 102.97 | 111.56 | 119.00 | 124.08 | 126.69
40 | 42.95 | 59.62 | 104.85 | 113.67 | 121.10 | 126.46 | 129.23
41 | 43.91 | 60.85 | 106.74 | 115.82 | 123.42 | 128.50 | 131.68
42 | 44.99 | 62.07 | 108.81 | 117.90 | 125.92 | 131.51 | 134.35
43 | 46.18 | 63.23 | 110.97 | 119.98 | 128.27 | 133.63 | 137.12
44 | 47.21 | 64.49 | 112.84 | 122.10 | 130.52 | 135.97 | 140.03
45 | 48.20 | 65.84 | 114.87 | 124.18 | 133.07 | 138.31 | 142.28
46 | 49.16 | 67.26 | 116.88 | 126.82 | 135.57 | 140.70 | 144.79
47 | 49.99 | 68.68 | 118.92 | 128.21 | 138.08 | 142.74 | 147.07
48 | 50.31 | 70.04 | 120.61 | 130.33 | 140.60 | 145.32 | 149.81
49 | 50.68 | 71.62 | 122.33 | 130.72 | 140.63 | 147.63 | 152.48
50 | 51.37 | 71.65 | 122.36 | 131.34 | 140.66 | 147.67 | 152.52
51 | 53.45 | 74.63 | 126.23 | 136.60 | 148.32 | 152.76 | 158.33
52 | 54.28 | 76.21 | 128.17 | 138.68 | 150.83 | 155.26 | 161.44
53 | 55.33 | 77.47 | 130.12 | 140.99 | 153.54 | 157.81 | 164.15
54 | 56.23 | 79.02 | 132.27 | 143.08 | 155.86 | 160.84 | 167.26
55 | 57.06 | 80.47 | 134.62 | 145.02 | 158.20 | 163.52 | 169.74
56 | 58.11 | 81.99 | 137.06 | 146.70 | 160.68 | 166.56 | 172.48
57 | 59.23 | 83.41 | 139.54 | 149.32 | 163.00 | 169.27 | 175.42
58 | 60.52 | 84.80 | 142.08 | 151.37 | 165.51 | 172.30 | 178.52
59 | 61.38 | 86.22 | 144.56 | 153.22 | 168.01 | 175.01 | 181.66
60 | 62.01 | 86.82 | 146.90 | 155.83 | 170.72 | 177.99 | 183.87
61 | 63.69 | 89.22 | 149.41 | 157.81 | 173.43 | 180.73 | 183.91
62 | 65.21 | 90.82 | 151.70 | 160.81 | 176.14 | 183.70 | 190.78
63 | 66.30 | 92.60 | 154.28 | 163.13 | 179.05 | 186.88 | 193.95
64 | 67.56 | 94.41 | 156.78 | 165.87 | 182.02 | 190.11 | 197.05
65 | 67.98 | 96.23 | 159.09 | 168.55 | 184.92 | 193.48 | 199.73
66 | 68.96 | 97.98 | 161.64 | 171.29 | 187.83 | 196.66 | 203.29
67 | 70.01 | 99.83 | 163.95 | 174.26 | 191.01 | 200.06 | 206.83
68 | 72.47 | 101.58 | 166.46 | 177.17 | 193.95 | 200.09 | 210.16
69 | 73.57 | 103.39 | 168.94 | 180.11 | 193.98 | 201.08 | 213.70
70 | 73.80 | 104.19 | 168.97 | 182.88 | 196.89 | 203.60 | 216.61

Commercial Plus Flat Rate Envelope
| ($)
Commercial Plus Regular Flat Rate Envelope, per piece | 12.85
Commercial Plus Legal Flat Rate Envelope, per piece | 12.85
Commercial Plus Padded Flat Rate Envelope, per piece | 12.85

Commercial Plus Flat Rate Box
| ($)
Commercial Plus Flat Rate Box, per piece | 39.95

Pickup On Demand Service

Sunday/Holiday Delivery

Add $12.50 for requesting Sunday or holiday delivery.

2110 Priority Mail

* * *

2110.6 Prices

Retail Priority Mail Zone/Weight
Maximum weight (pounds) | Local, Zones 1 & 2 | Zone 3 | Zone 4 | Zone 5 | Zone 6 | Zone 7 | Zone 8
| ($) | ($) | ($) | ($) | ($) | ($) | ($)
1 | 5.60 | 5.70 | 5.85 | 6.00 | 6.20 | 6.45 | 6.95
2 | 5.80 | 6.15 | 6.85 | 8.75 | 9.50 | 10.25 | 11.25
3 | 6.60 | 7.60 | 8.75 | 10.60 | 12.00 | 12.90 | 15.25
4 | 7.45 | 8.90 | 10.05 | 14.05 | 15.40 | 16.45 | 18.35
5 | 8.85 | 10.20 | 11.50 | 15.95 | 17.55 | 18.90 | 21.20
6 | 9.75 | 11.25 | 12.90 | 17.75 | 19.70 | 21.20 | 23.95
7 | 10.35 | 12.20 | 13.90 | 19.75 | 21.80 | 23.85 | 26.90
8 | 11.10 | 13.30 | 15.55 | 21.45 | 23.95 | 26.30 | 30.15
9 | 11.85 | 14.35 | 16.85 | 23.25 | 26.05 | 28.45 | 33.55
10 | 12.65 | 15.40 | 18.35 | 25.20 | 28.15 | 31.30 | 36.50
11 | 13.50 | 16.45 | 19.80 | 27.15 | 30.20 | 34.55 | 40.10
12 | 14.45 | 17.65 | 21.20 | 29.15 | 32.85 | 37.35 | 43.05
13 | 15.35 | 18.75 | 22.40 | 30.80 | 35.25 | 38.85 | 44.60
14 | 16.25 | 19.90 | 23.75 | 32.75 | 37.20 | 41.05 | 46.80
15 | 16.95 | 21.00 | 25.05 | 34.65 | 38.80 | 41.95 | 48.15
16 | 17.45 | 22.15 | 26.45 | 36.55 | 41.00 | 44.30 | 50.80
17 | 18.15 | 23.20 | 27.85 | 38.50 | 43.10 | 46.60 | 53.50
18 | 18.50 | 24.05 | 29.20 | 40.35 | 45.35 | 48.90 | 56.20
19 | 19.00 | 24.55 | 29.75 | 41.45 | 47.40 | 51.20 | 58.85
20 | 19.80 | 24.85 | 30.30 | 42.15 | 48.60 | 53.10 | 61.55
21 | 20.45 | 25.20 | 30.75 | 42.80 | 49.40 | 53.95 | 63.00
22 | 20.95 | 25.80 | 31.30 | 43.80 | 50.50 | 55.25 | 64.50
23 | 21.40 | 26.25 | 32.15 | 44.55 | 51.40 | 56.30 | 65.65
24 | 21.90 | 26.80 | 33.20 | 45.50 | 52.45 | 57.75 | 67.25
25 | 22.40 | 27.25 | 34.15 | 46.25 | 53.20 | 59.20 | 68.40
26 | 22.85 | 27.50 | 35.30 | 47.20 | 54.50 | 60.65 | 70.55
27 | 23.50 | 27.95 | 36.35 | 48.15 | 55.25 | 62.05 | 73.20
28 | 24.25 | 28.35 | 37.40 | 49.35 | 56.00 | 63.50 | 75.95
29 | 24.95 | 28.60 | 38.40 | 50.05 | 56.95 | 64.95 | 78.00
30 | 25.70 | 29.00 | 39.30 | 50.75 | 58.55 | 66.40 | 79.70
31 | 26.45 | 29.30 | 39.90 | 51.40 | 59.40 | 67.85 | 81.30
32 | 26.75 | 29.90 | 40.60 | 52.00 | 60.15 | 69.30 | 82.95
33 | 27.15 | 30.75 | 41.60 | 52.70 | 61.30 | 70.75 | 84.50
34 | 27.40 | 31.55 | 42.65 | 53.80 | 62.75 | 72.20 | 86.10
35 | 27.75 | 32.30 | 43.25 | 54.95 | 64.45 | 73.65 | 87.55
36 | 28.05 | 33.25 | 43.80 | 56.15 | 66.10 | 74.65 | 89.05
37 | 28.35 | 33.85 | 44.45 | 57.15 | 67.80 | 75.60 | 90.50
38 | 28.60 | 34.70 | 45.00 | 58.30 | 69.70 | 76.50 | 91.95
39 | 28.90 | 35.45 | 45.55 | 59.50 | 71.35 | 78.50 | 93.35
40 | 29.25 | 36.20 | 46.15 | 60.75 | 72.50 | 80.25 | 94.65
41 | 29.55 | 36.90 | 46.65 | 61.30 | 73.70 | 81.95 | 96.00
42 | 29.75 | 37.60 | 47.20 | 62.65 | 75.00 | 83.05 | 97.30
43 | 30.10 | 38.20 | 47.65 | 64.05 | 76.80 | 84.10 | 98.55
44 | 30.30 | 38.80 | 48.25 | 65.35 | 78.05 | 85.10 | 99.70
45 | 30.50 | 39.25 | 48.60 | 66.85 | 78.90 | 86.05 | 100.95
46 | 30.75 | 39.55 | 49.10 | 68.10 | 79.75 | 86.95 | 102.15
47 | 31.00 | 39.85 | 49.55 | 69.65 | 80.60 | 87.95 | 103.30
48 | 31.25 | 40.20 | 50.00 | 71.00 | 81.65 | 88.80 | 104.40
49 | 31.45 | 40.50 | 50.40 | 72.30 | 82.75 | 89.70 | 105.45
50 | 31.60 | 40.75 | 50.75 | 73.75 | 83.90 | 90.85 | 106.55
51 | 31.75 | 41.10 | 51.20 | 74.95 | 85.05 | 92.15 | 107.55
52 | 32.15 | 41.35 | 51.55 | 75.55 | 85.90 | 93.55 | 108.80
53 | 32.70 | 41.65 | 51.90 | 76.15 | 86.60 | 95.05 | 110.20
54 | 33.15 | 41.85 | 52.25 | 76.75 | 87.25 | 96.45 | 111.75
55 | 33.70 | 42.15 | 52.55 | 77.30 | 87.95 | 97.95 | 113.25
56 | 34.15 | 42.35 | 52.85 | 77.85 | 88.55 | 99.35 | 114.30
57 | 34.65 | 42.55 | 53.20 | 78.30 | 89.20 | 100.85 | 115.15
58 | 35.20 | 42.75 | 53.50 | 78.85 | 89.70 | 102.20 | 116.00
59 | 35.75 | 42.95 | 53.75 | 79.30 | 90.25 | 102.90 | 116.90
60 | 36.20 | 43.15 | 54.30 | 79.70 | 90.70 | 103.50 | 117.70
61 | 36.75 | 43.35 | 55.25 | 80.10 | 91.20 | 104.10 | 119.30
62 | 37.15 | 43.45 | 55.95 | 80.50 | 91.65 | 104.55 | 121.20
63 | 37.90 | 43.65 | 56.85 | 80.90 | 92.15 | 105.05 | 123.15
64 | 38.25 | 43.75 | 57.70 | 81.25 | 92.55 | 105.55 | 125.00
65 | 38.75 | 43.85 | 58.50 | 81.50 | 92.85 | 106.05 | 126.95
66 | 39.25 | 44.05 | 59.40 | 81.90 | 93.30 | 106.40 | 128.80
67 | 39.85 | 44.15 | 60.40 | 82.20 | 93.60 | 106.80 | 130.50
68 | 40.35 | 44.25 | 61.20 | 82.40 | 94.75 | 107.20 | 131.90
69 | 40.90 | 44.30 | 61.90 | 82.65 | 95.90 | 107.55 | 133.30
70 | 41.30 | 44.40 | 62.95 | 82.90 | 97.05 | 107.95 | 134.75

Retail Pickup On Demand Service

Retail Flat Rate Envelopes¹
| ($)
Retail Regular Flat Rate Envelope, per piece | 5.60
Retail Legal Flat Rate Envelope, per piece | 5.75
Retail Padded Flat Rate Envelope, per piece | 5.95
¹ The price for Regular, Legal, or Padded Flat Rate Envelopes also applies to sales of Regular, Legal, or Padded Flat Rate Envelopes, respectively, marked with Forever postage, at the time the envelopes are purchased.

Retail Flat Rate Boxes ²
Size | Delivery to domestic address | Delivery to APO/FPO/DPO address
| ($) | ($)
Small Flat Rate Box | 5.80 | 5.80
Medium Flat Rate Boxes | 12.35 | 12.35
Large Flat Rate Boxes | 16.85 | 14.85
² The price for Small, Medium, or Large Flat Rate Boxes also applies to sales of Small, Medium, or Large Flat Rate Boxes, respectively, marked with Forever postage, at the time the boxes are purchased.

Retail Balloon Price

In Zones 1-4 (including local), parcels weighing less than 20 pounds but measuring more than 84 inches in combined length and girth (but not more than 108 inches) are charged the applicable price for a 20-pound parcel.

Retail Dimensional Weight

In Zones 5-8, parcels exceeding one cubic foot are priced at the actual weight or the dimensional weight, whichever is greater.

For box-shaped parcels, the dimensional weight (pounds) is calculated by multiplying the length (inches) times the width (inches) times the height (inches) of the parcel, and dividing by 194.

For irregular-shaped parcels (parcels not appearing box-shaped), the dimensional weight (pounds) is calculated by multiplying the length (inches) times the width (inches) times the height (inches) at the associated maximum cross-sections of the parcel, dividing by 194, and multiplying by an adjustment factor of 0.785.

Regional Rate Boxes
Size | Local, Zones 1 & 2 | Zone 3 | Zone 4 | Zone 5 | Zone 6 | Zone 7 | Zone 8
| ($) | ($) | ($) | ($) | ($) | ($) | ($)
A | 6.07 | 6.19 | 6.59 | 8.23 | 8.94 | 9.65 | 10.63
B | 6.91 | 8.11 | 9.22 | 11.91 | 14.00 | 15.04 | 16.88
C | 15.86 | 20.46 | 24.16 | 33.49 | 37.80 | 41.28 | 47.76

Commercial Base Priority Mail Zone/Weight
Maximum Weight (pounds) | Local, Zones 1 & 2 | Zone 3 | Zone 4 | Zone 5 | Zone 6 | Zone 7 | Zone 8
| ($) | ($) | ($) | ($) | ($) | ($) | ($)
1 | 5.05 | 5.23 | 5.35 | 5.54 | 5.75 | 6.02 | 6.51
2 | 5.32 | 5.44 | 5.84 | 7.48 | 8.19 | 8.90 | 9.88
3 | 5.49 | 6.39 | 7.36 | 9.03 | 10.62 | 11.49 | 13.40
4 | 6.16 | 7.36 | 8.47 | 11.16 | 13.25 | 14.29 | 16.13
5 | 7.24 | 8.53 | 9.63 | 12.97 | 15.08 | 16.43 | 18.70
6 | 8.09 | 9.54 | 10.85 | 14.76 | 16.93 | 18.73 | 21.42
7 | 8.63 | 10.38 | 11.72 | 16.73 | 18.74 | 21.12 | 24.05
8 | 9.26 | 11.29 | 13.32 | 18.41 | 20.60 | 23.25 | 27.01
9 | 9.68 | 12.18 | 14.18 | 19.82 | 22.41 | 25.18 | 30.03
10 | 10.41 | 13.06 | 15.41 | 21.51 | 24.21 | 27.68 | 32.66
11 | 11.26 | 13.98 | 16.68 | 23.17 | 25.98 | 30.13 | 35.38
12 | 12.06 | 14.97 | 17.87 | 24.90 | 28.33 | 32.58 | 37.94
13 | 12.78 | 15.92 | 18.83 | 26.20 | 30.42 | 33.89 | 39.29
14 | 13.55 | 16.89 | 19.97 | 27.86 | 32.12 | 35.80 | 41.24
15 | 14.15 | 17.84 | 21.08 | 29.47 | 33.36 | 36.47 | 42.33
16 | 14.57 | 18.80 | 22.26 | 31.08 | 35.25 | 38.51 | 44.66
17 | 15.11 | 19.71 | 23.41 | 32.74 | 37.05 | 40.53 | 47.01
18 | 15.42 | 20.39 | 24.53 | 34.33 | 39.00 | 42.52 | 49.38
19 | 15.83 | 20.83 | 25.03 | 35.25 | 40.75 | 44.51 | 51.72
20 | 16.53 | 21.08 | 25.49 | 35.85 | 41.79 | 46.16 | 54.11
21 | 17.08 | 21.40 | 25.88 | 36.13 | 42.13 | 46.60 | 54.81
22 | 17.24 | 21.60 | 26.32 | 36.42 | 42.43 | 46.97 | 55.44
23 | 17.40 | 21.73 | 26.40 | 36.58 | 42.67 | 47.29 | 55.77
24 | 17.83 | 22.21 | 27.25 | 37.39 | 43.56 | 48.51 | 57.13
25 | 18.23 | 22.58 | 28.07 | 37.99 | 44.19 | 49.72 | 58.12
26 | 18.60 | 22.79 | 28.98 | 38.80 | 45.27 | 50.94 | 59.93
27 | 19.14 | 23.13 | 29.87 | 39.56 | 45.89 | 52.13 | 62.20
28 | 19.72 | 23.45 | 30.70 | 40.59 | 46.50 | 53.35 | 64.53
29 | 20.32 | 23.68 | 31.54 | 41.13 | 47.29 | 54.57 | 66.26
30 | 20.94 | 24.03 | 32.28 | 41.71 | 48.62 | 55.77 | 67.69
31 | 21.52 | 24.27 | 32.78 | 42.23 | 49.33 | 57.01 | 69.07
32 | 21.76 | 24.78 | 33.33 | 42.74 | 49.97 | 58.23 | 70.48
33 | 22.10 | 25.46 | 34.17 | 43.29 | 50.93 | 59.42 | 71.78
34 | 22.30 | 26.13 | 35.02 | 44.22 | 52.13 | 60.65 | 73.14
35 | 22.57 | 26.76 | 35.52 | 45.15 | 53.53 | 61.86 | 74.38
36 | 22.84 | 27.53 | 36.00 | 46.13 | 54.89 | 62.71 | 75.65
37 | 23.08 | 28.03 | 36.51 | 46.97 | 56.32 | 63.51 | 76.89
38 | 23.29 | 28.71 | 36.98 | 47.90 | 57.90 | 64.25 | 78.12
39 | 23.54 | 29.38 | 37.41 | 48.89 | 59.27 | 65.95 | 79.33
40 | 23.78 | 30.00 | 37.88 | 49.90 | 60.22 | 67.41 | 80.41
41 | 24.03 | 30.52 | 38.29 | 50.36 | 61.23 | 68.84 | 81.56
42 | 24.21 | 31.14 | 38.77 | 51.45 | 62.29 | 69.78 | 82.67
43 | 24.49 | 31.64 | 39.16 | 52.61 | 63.79 | 70.64 | 83.73
44 | 24.65 | 32.16 | 39.62 | 53.71 | 64.81 | 71.49 | 84.69
45 | 24.82 | 32.49 | 39.92 | 54.93 | 65.53 | 72.28 | 85.76
46 | 25.02 | 32.74 | 40.33 | 55.95 | 66.24 | 73.04 | 86.78
47 | 25.23 | 32.99 | 40.71 | 57.25 | 66.94 | 73.88 | 87.75
48 | 25.43 | 33.29 | 41.05 | 58.33 | 67.81 | 74.59 | 88.70
49 | 25.62 | 33.55 | 41.39 | 59.38 | 68.73 | 75.36 | 89.57
50 | 25.73 | 33.76 | 41.67 | 60.57 | 69.69 | 76.31 | 90.53
51 | 26.11 | 34.06 | 42.06 | 61.61 | 70.64 | 77.41 | 91.37
52 | 26.51 | 34.22 | 42.31 | 62.04 | 71.34 | 78.59 | 92.44
53 | 26.99 | 34.48 | 42.60 | 62.56 | 71.93 | 79.86 | 93.62
54 | 27.38 | 34.63 | 42.91 | 63.09 | 72.45 | 81.02 | 94.94
55 | 27.81 | 34.93 | 43.16 | 63.50 | 73.04 | 82.29 | 96.21
56 | 28.20 | 35.09 | 43.43 | 63.97 | 73.53 | 83.46 | 97.20
57 | 28.64 | 35.25 | 43.71 | 64.35 | 74.09 | 84.72 | 98.07
58 | 29.07 | 35.42 | 43.92 | 64.76 | 74.51 | 85.85 | 98.87
59 | 29.49 | 35.60 | 44.13 | 65.16 | 74.96 | 86.43 | 99.60
60 | 29.87 | 35.76 | 44.71 | 65.50 | 75.33 | 86.95 | 100.30
61 | 30.34 | 35.93 | 45.50 | 65.84 | 75.75 | 87.44 | 101.65
62 | 30.71 | 36.01 | 46.11 | 66.13 | 76.11 | 87.84 | 103.27
63 | 31.26 | 36.12 | 46.85 | 66.48 | 76.53 | 88.26 | 104.92
64 | 31.55 | 36.21 | 47.55 | 66.76 | 76.87 | 88.66 | 106.54
65 | 32.00 | 36.30 | 48.19 | 66.98 | 77.11 | 89.08 | 108.20
66 | 32.43 | 36.47 | 48.93 | 67.28 | 77.48 | 89.36 | 109.77
67 | 32.90 | 36.56 | 49.75 | 67.53 | 77.75 | 89.72 | 111.22
68 | 33.29 | 36.64 | 50.40 | 67.71 | 78.71 | 90.18 | 112.41
69 | 33.76 | 36.69 | 51.02 | 67.92 | 79.65 | 90.61 | 113.60
70 | 34.10 | 36.77 | 51.83 | 68.12 | 80.61 | 90.94 | 114.82

Commercial Pickup On Demand Service

Commercial Base Flat Rate Envelope
| ($)
Commercial Base Regular Flat Rate Envelope, per piece | 5.05
Commercial Base Legal Flat Rate Envelope, per piece | 5.25
Commercial Base Padded Flat Rate Envelope, per piece | 5.70

Commercial Base Flat Rate Box
Size | Delivery to domestic address | Delivery to APO/FPO/DPO address
| ($) | ($)
Small Flat Rate Box | 5.15 | 5.15
Regular Flat Rate Boxes | 11.30 | 11.30
Large Flat Rate Boxes | 15.30 | 13.30

Commercial Base Balloon Price

In Zones 1-4 (including local), parcels weighing less than 20 pounds but measuring more than 84 inches in combined length and girth (but not more than 108 inches) are charged the applicable price for a 20-pound parcel.

Commercial Base Dimensional Weight

In Zones 5-8, parcels exceeding one cubic foot are priced at the actual weight or the dimensional weight, whichever is greater.

For box-shaped parcels, the dimensional weight (pounds) is calculated by multiplying the length (inches) times the width (inches) times the height (inches) of the parcel, and dividing by 194.

For irregular-shaped parcels (parcels not appearing box-shaped), the dimensional weight (pounds) is calculated by multiplying the length (inches) times the width (inches) times the height (inches) at the associated maximum cross-sections of the parcel, dividing by 194, and multiplying by an adjustment factor of 0.785.

Regional Rate Boxes
Size | Local, Zones 1 & 2 | Zone 3 | Zone 4 | Zone 5 | Zone 6 | Zone 7 | Zone 8
| ($) | ($) | ($) | ($) | ($) | ($) | ($)
A | 5.32 | 5.44 | 5.84 | 7.48 | 8.19 | 8.90 | 9.88
B | 6.16 | 7.36 | 8.47 | 11.16 | 13.25 | 14.29 | 16.13
C | 15.11 | 19.71 | 23.41 | 32.74 | 37.05 | 40.53 | 47.01

Commercial Plus Priority Mail Zone/Weight
Maximum weight (pounds) | Local, Zones 1 & 2 | Zone 3 | Zone 4 | Zone 5 | Zone 6 | Zone 7 | Zone 8
| ($) | ($) | ($) | ($) | ($) | ($) | ($)
0.5 | 4.58 | 4.65 | 4.74 | 4.99 | 5.23 | 5.47 | 5.82
1 | 4.95 | 5.10 | 5.27 | 5.47 | 5.66 | 5.86 | 6.25
2 | 5.09 | 5.35 | 5.74 | 7.15 | 7.66 | 8.27 | 8.95
3 | 5.20 | 6.05 | 6.92 | 8.63 | 10.15 | 11.12 | 12.48
4 | 5.79 | 6.90 | 8.05 | 10.53 | 12.33 | 13.59 | 15.46
5 | 6.45 | 7.88 | 8.84 | 12.31 | 14.29 | 15.85 | 18.23
6 | 7.34 | 9.13 | 10.51 | 14.52 | 16.03 | 18.28 | 20.28
7 | 8.08 | 10.12 | 11.67 | 16.59 | 17.81 | 20.56 | 23.18
8 | 8.54 | 10.51 | 13.00 | 18.11 | 19.32 | 22.55 | 26.01
9 | 8.76 | 11.25 | 13.87 | 19.54 | 20.92 | 24.53 | 28.94
10 | 9.29 | 12.12 | 14.62 | 20.82 | 22.65 | 26.70 | 31.60
11 | 9.72 | 12.41 | 15.47 | 21.62 | 24.06 | 28.16 | 32.73
12 | 10.14 | 13.05 | 16.34 | 22.83 | 25.93 | 29.61 | 34.14
13 | 10.41 | 13.37 | 16.81 | 24.10 | 27.80 | 30.80 | 35.32
14 | 10.77 | 13.95 | 17.56 | 25.18 | 29.29 | 32.56 | 37.08
15 | 11.24 | 14.57 | 18.40 | 25.94 | 29.96 | 32.90 | 37.87
16 | 11.61 | 15.07 | 18.99 | 26.49 | 30.64 | 33.64 | 38.84
17 | 11.96 | 15.57 | 19.38 | 27.16 | 31.47 | 34.46 | 39.83
18 | 12.22 | 16.06 | 19.74 | 27.71 | 32.07 | 35.13 | 40.79
19 | 12.64 | 16.42 | 20.06 | 28.37 | 32.83 | 36.03 | 41.81
20 | 12.94 | 16.68 | 20.44 | 28.85 | 33.46 | 36.71 | 42.72
21 | 13.32 | 16.91 | 20.76 | 29.34 | 34.01 | 37.35 | 43.57
22 | 13.63 | 17.22 | 21.08 | 29.99 | 34.77 | 38.20 | 44.64
23 | 13.94 | 17.43 | 21.66 | 30.51 | 35.38 | 38.89 | 45.41
24 | 14.24 | 17.64 | 22.31 | 31.15 | 36.11 | 39.79 | 46.55
25 | 14.57 | 17.90 | 23.06 | 31.65 | 36.68 | 40.38 | 47.35
26 | 14.87 | 18.12 | 23.79 | 32.30 | 37.48 | 41.22 | 48.86
27 | 15.28 | 18.37 | 24.51 | 32.75 | 38.03 | 41.84 | 50.67
28 | 15.77 | 18.58 | 25.14 | 33.17 | 38.54 | 42.46 | 52.53
29 | 16.22 | 18.80 | 25.89 | 33.62 | 39.04 | 43.01 | 54.21
30 | 16.75 | 19.08 | 26.56 | 34.09 | 39.60 | 43.63 | 56.04
31 | 17.16 | 19.24 | 27.32 | 34.49 | 40.09 | 44.18 | 57.88
32 | 17.62 | 19.70 | 28.02 | 34.93 | 40.65 | 45.25 | 59.69
33 | 18.09 | 20.24 | 28.64 | 35.37 | 41.14 | 46.53 | 61.45
34 | 18.57 | 20.76 | 29.40 | 36.12 | 42.36 | 47.82 | 63.26
35 | 19.03 | 21.30 | 30.00 | 36.89 | 43.52 | 49.10 | 65.06
36 | 19.50 | 21.82 | 30.48 | 37.72 | 44.62 | 50.44 | 66.87
37 | 19.97 | 22.29 | 30.98 | 38.42 | 45.79 | 51.72 | 68.66
38 | 20.23 | 22.82 | 31.43 | 39.18 | 47.06 | 52.95 | 70.48
39 | 20.48 | 23.30 | 31.86 | 39.96 | 48.21 | 54.31 | 72.34
40 | 20.86 | 23.76 | 32.34 | 40.79 | 49.31 | 55.52 | 74.03
41 | 21.30 | 24.23 | 32.76 | 41.16 | 50.48 | 56.87 | 75.83
42 | 21.70 | 24.72 | 33.20 | 42.04 | 51.58 | 58.20 | 77.63
43 | 22.13 | 25.14 | 33.63 | 42.97 | 52.87 | 59.49 | 79.47
44 | 22.52 | 25.63 | 34.06 | 43.96 | 53.95 | 60.82 | 81.25
45 | 22.90 | 26.10 | 34.43 | 44.89 | 55.13 | 62.13 | 83.05
46 | 23.33 | 26.58 | 35.11 | 45.75 | 56.29 | 63.40 | 84.85
47 | 23.75 | 27.05 | 35.77 | 46.74 | 57.57 | 64.75 | 86.61
48 | 24.17 | 27.41 | 36.56 | 47.67 | 58.74 | 66.07 | 88.16
49 | 24.56 | 27.75 | 36.93 | 48.56 | 59.78 | 67.43 | 89.04
50 | 24.90 | 27.99 | 37.27 | 49.49 | 60.94 | 68.71 | 90.16
51 | 25.39 | 28.26 | 37.93 | 50.48 | 62.10 | 69.99 | 91.12
52 | 25.73 | 28.51 | 38.67 | 51.40 | 63.37 | 71.28 | 92.01
53 | 26.22 | 28.80 | 39.31 | 52.33 | 64.48 | 72.62 | 92.92
54 | 26.56 | 28.99 | 39.97 | 53.32 | 65.58 | 73.85 | 93.80
55 | 26.98 | 29.27 | 40.78 | 54.24 | 66.74 | 75.07 | 94.60
56 | 27.39 | 29.47 | 41.42 | 55.10 | 68.01 | 76.42 | 95.43
57 | 27.83 | 29.76 | 42.07 | 55.99 | 69.12 | 77.75 | 96.29
58 | 28.20 | 29.96 | 42.81 | 56.98 | 70.28 | 78.39 | 97.07
59 | 28.65 | 30.16 | 43.52 | 57.92 | 71.00 | 78.84 | 97.76
60 | 28.99 | 30.37 | 44.16 | 58.89 | 71.40 | 80.14 | 98.51
61 | 29.47 | 30.57 | 44.95 | 59.77 | 72.23 | 81.37 | 99.82
62 | 29.82 | 30.86 | 45.61 | 60.77 | 72.69 | 82.62 | 101.40
63 | 30.29 | 31.32 | 46.31 | 61.75 | 73.10 | 83.48 | 103.00
64 | 30.63 | 31.51 | 47.00 | 62.68 | 73.56 | 83.99 | 104.61
65 | 31.08 | 31.60 | 47.61 | 63.30 | 73.94 | 84.44 | 106.25
66 | 31.46 | 31.96 | 48.36 | 63.56 | 74.40 | 84.86 | 107.79
67 | 31.89 | 32.40 | 49.14 | 64.23 | 74.76 | 85.34 | 109.48
68 | 32.29 | 32.80 | 49.82 | 65.15 | 75.06 | 85.75 | 110.99
69 | 32.74 | 33.24 | 50.45 | 66.14 | 75.49 | 86.19 | 112.63
70 | 33.12 | 33.63 | 51.23 | 66.43 | 75.79 | 86.53 | 114.21

Commercial Pickup On Demand Service

Commercial Plus Flat Rate Envelope
| ($)
Commercial Plus Regular Flat Rate Envelope, per piece | 4.95
Commercial Plus Legal Flat Rate Envelope, per piece | 4.99
Commercial Plus Padded Flat Rate Envelope, per piece | 5.35

Commercial Plus Flat Rate Box
Size | Delivery to domestic address | Delivery to APO/FPO/DPO address
| ($) | ($)
Small Flat Rate Box | 5.10 | 5.10
Medium Flat Rate Boxes | 10.65 | 10.65
Large Flat Rate Boxes | 14.80 | 12.80

Commercial Plus Balloon Price

In Zones 1-4 (including local), parcels weighing less than 20 pounds but measuring more than 84 inches in combined length and girth (but not more than 108 inches) are charged the applicable price for a 20-pound parcel.

Commercial Plus Dimensional Weight

In Zones 5-8, parcels exceeding one cubic foot are priced at the actual weight or the dimensional weight, whichever is greater.

For box-shaped parcels, the dimensional weight (pounds) is calculated by multiplying the length (inches) times the width (inches) times the height (inches) of the parcel, and dividing by 194.

For irregular-shaped parcels (parcels not appearing box-shaped), the dimensional weight (pounds) is calculated by multiplying the length (inches) times the width (inches) times the height (inches) at the associated maximum cross-sections of the parcel, dividing by 194, and multiplying by an adjustment factor of 0.785.

Critical Mail
Shape | Local, Zones 1 & 2 | Zone 3 | Zone 4 | Zone 5 | Zone 6 | Zone 7 | Zone 8
| ($) | ($) | ($) | ($) | ($) | ($) | ($)
Letter | 3.50 | 3.50 | 3.50 | 3.50 | 3.50 | 3.50 | 3.50
Flat | 4.50 | 4.50 | 4.50 | 4.50 | 4.50 | 4.50 | 4.50
Letter with Signature | 4.60 | 4.60 | 4.60 | 4.60 | 4.60 | 4.60 | 4.60
Flat with Signature | 5.35 | 5.35 | 5.35 | 5.35 | 5.35 | 5.35 | 5.35

Regional Rate Boxes
Size | Local, Zones 1 & 2 | Zone 3 | Zone 4 | Zone 5 | Zone 6 | Zone 7 | Zone 8
| ($) | ($) | ($) | ($) | ($) | ($) | ($)
A | 5.32 | 5.44 | 5.84 | 7.48 | 8.19 | 8.90 | 9.88
B | 6.16 | 7.36 | 8.47 | 11.16 | 13.25 | 14.29 | 16.13
C | 15.11 | 19.71 | 23.41 | 32.74 | 37.05 | 40.53 | 47.01

Commercial Plus Cubic
Maximum cubic feet | Local, Zones 1 & 2 | Zone 3 | Zone 4 | Zone 5 | Zone 6 | Zone 7 | Zone 8
| ($) | ($) | ($) | ($) | ($) | ($) | ($)
0.10 | 4.58 | 4.65 | 4.74 | 4.99 | 5.23 | 5.47 | 5.82
0.20 | 5.01 | 5.16 | 5.32 | 5.53 | 5.73 | 5.94 | 6.33
0.30 | 5.23 | 5.69 | 6.24 | 7.78 | 8.63 | 9.38 | 10.29
0.40 | 5.45 | 6.38 | 7.34 | 9.28 | 10.90 | 11.96 | 13.48
0.50 | 6.20 | 7.48 | 8.57 | 11.54 | 13.46 | 14.88 | 17.02

Commercial Pickup On Demand Service

Open and Distribute (PMOD)

a. DDU

Container | Local, Zones 1 & 2 | Zone 3 | Zone 4 | Zone 5 | Zone 6 | Zone 7 | Zone 8
| ($) | ($) | ($) | ($) | ($) | ($) | ($)
Half Tray | 7.49 | 9.17 | 11.08 | 17.83 | 18.06 | 19.64 | 21.80
Full Tray | 10.18 | 12.74 | 14.83 | 25.95 | 29.83 | 31.69 | 35.36
EMM Tray | 11.67 | 12.91 | 17.18 | 24.69 | 29.01 | 30.52 | 38.48
Flat Tub | 16.68 | 20.91 | 25.85 | 43.73 | 52.78 | 57.06 | 63.51

b. Processing Facilities

Container | Local, Zones 1 & 2 | Zone 3 | Zone 4 | Zone 5 | Zone 6 | Zone 7 | Zone 8
| ($) | ($) | ($) | ($) | ($) | ($) | ($)
Half Tray | 5.94 | 7.52 | 9.24 | 16.10 | 16.45 | 18.00 | 19.32
Full Tray | 7.68 | 9.90 | 12.33 | 22.49 | 26.58 | 28.45 | 31.80
EMM Tray | 9.16 | 10.62 | 14.46 | 22.47 | 26.70 | 28.27 | 35.88
Flat Tub | 13.11 | 17.33 | 21.95 | 40.09 | 48.96 | 53.30 | 58.63

2115 Parcel Select

* * * * *

2115.4 Price Categories

* * * * *

Non-Destination Entered

• ONDC Presort—Entered at the origin network distribution center

• Balloon Price

• Oversized

• Forwarding and Returns

• NDC Presort—Entered at a designated facility

• Balloon Price

• Oversized

• Forwarding and Returns

• Nonpresort

• Balloon Price

• Oversized

• Forwarding and Returns

• Machinable Lightweight

• 5-Digit

DDU, DSCF, and DNDC entry levels

Commercial eligible

• NDC

DNDC and Origin entry levels

Commercial eligible

• Mixed NDC

Origin entry level

Commercial eligible

• Irregular Lightweight (Do not meet the machinability requirements for machinable parcels.)

• 5-Digit

DDU, DSCF, and DNDC entry levels

Commercial eligible

• SCF

DSCF and DNDC entry levels

Commercial eligible

• NDC

DNDC and Origin entry levels

Commercial eligible

• Mixed NDC

Origin entry level

Commercial eligible

2115.6 Prices

Destination Entered—DDU

a. DDU

Maximum weight (pounds) | DDU ($)
1 | 2.16
2 | 2.16
3 | 2.20
4 | 2.24
5 | 2.27
6 | 2.30
7 | 2.34
8 | 2.37
9 | 2.41
10 | 2.44
11 | 2.47
12 | 2.51
13 | 2.55
14 | 2.58
15 | 2.61
16 | 2.65
17 | 2.69
18 | 2.73
19 | 2.77
20 | 2.81
21 | 2.86
22 | 2.91
23 | 2.96
24 | 3.00
25 | 3.05
26 | 3.10
27 | 3.15
28 | 3.20
29 | 3.25
30 | 3.30
31 | 3.35
32 | 3.39
33 | 3.44
34 | 3.49
35 | 3.54
36 | 3.59
37 | 3.64
38 | 3.69
39 | 3.74
40 | 3.78
41 | 3.83
42 | 3.88
43 | 3.93
44 | 3.98
45 | 4.03
46 | 4.07
47 | 4.12
48 | 4.17
49 | 4.22
50 | 4.27
51 | 4.32
52 | 4.37
53 | 4.42
54 | 4.46
55 | 4.51
56 | 4.56
57 | 4.61
58 | 4.66
59 | 4.71
60 | 4.76
61 | 4.81
62 | 4.86
63 | 4.91
64 | 4.95
65 | 5.00
66 | 5.05
67 | 5.10
68 | 5.14
69 | 5.19
70 | 5.24
Oversized | 8.24

b. Balloon Price

Pieces exceeding 84 inches in length and girth combined (but not more than 108 inches) and weighing less than 20 pounds are subject to a price equal to that for a 20-pound parcel for the zone to which the parcel is addressed.

c. Oversized Pieces

Regardless of weight, any piece that measures more than 108 inches (but not more than 130 inches) in length plus girth must pay the oversized price.

d. Forwarding and Returns

Parcel Select pieces that are forwarded on request of the addressee or forwarded or returned on request of the mailer will be subject to the applicable Parcel Select Nonpresort price, plus $3.00, when forwarded or returned.

Destination Entered—DSCF

a. DSCF—5-Digit Machinable

Maximum weight (pounds) | DSCF 5-Digit ($)
1 | 2.97
2 | 2.97
3 | 3.16
4 | 3.35
5 | 3.55
6 | 3.75
7 | 3.94
8 | 4.12
9 | 4.30
10 | 4.47
11 | 4.63
12 | 4.79
13 | 4.94
14 | 5.09
15 | 5.24
16 | 5.39
17 | 5.54
18 | 5.69
19 | 5.83
20 | 5.98
21 | 6.13
22 | 6.29
23 | 6.45
24 | 6.60
25 | 6.75
26 | 6.90
27 | 7.05
28 | 7.20
29 | 7.35
30 | 7.49
31 | 7.64
32 | 7.79
33 | 7.94
34 | 8.09
35 | 8.24

b. DSCF—3-Digit, 5-Digit Non-Machinable

Maximum weight (pounds) | DSCF 3-Digit ($) | DSCF 5-Digit ($)
1 | 3.97 | 2.97
2 | 3.97 | 2.97
3 | 4.16 | 3.16
4 | 4.35 | 3.35
5 | 4.55 | 3.55
6 | 4.75 | 3.75
7 | 4.94 | 3.94
8 | 5.12 | 4.12
9 | 5.30 | 4.30
10 | 5.47 | 4.47
11 | 5.63 | 4.63
12 | 5.79 | 4.79
13 | 5.94 | 4.94
14 | 6.09 | 5.09
15 | 6.24 | 5.24
16 | 6.39 | 5.39
17 | 6.54 | 5.54
18 | 6.69 | 5.69
19 | 6.83 | 5.83
20 | 6.98 | 5.98
21 | 7.13 | 6.13
22 | 7.29 | 6.29
23 | 7.45 | 6.45
24 | 7.60 | 6.60
25 | 7.75 | 6.75
26 | 7.90 | 6.90
27 | 8.05 | 7.05
28 | 8.20 | 7.20
29 | 8.35 | 7.35
30 | 8.49 | 7.49
31 | 8.64 | 7.64
32 | 8.79 | 7.79
33 | 8.94 | 7.94
34 | 9.09 | 8.09
35 | 9.24 | 8.24
36 | 9.38 | 8.38
37 | 9.52 | 8.52
38 | 9.67 | 8.67
39 | 9.82 | 8.82
40 | 9.96 | 8.96
41 | 10.10 | 9.10
42 | 10.24 | 9.24
43 | 10.38 | 9.38
44 | 10.51 | 9.51
45 | 10.65 | 9.65
46 | 10.79 | 9.79
47 | 10.93 | 9.93
48 | 11.06 | 10.06
49 | 11.20 | 10.20
50 | 11.34 | 10.34
51 | 11.48 | 10.48
52 | 11.62 | 10.62
53 | 11.76 | 10.76
54 | 11.91 | 10.91
55 | 12.06 | 11.06
56 | 12.20 | 11.20
57 | 12.36 | 11.36
58 | 12.52 | 11.52
59 | 12.68 | 11.68
60 | 12.84 | 11.84
61 | 12.99 | 11.99
62 | 13.13 | 12.13
63 | 13.28 | 12.28
64 | 13.43 | 12.43
65 | 13.58 | 12.58
66 | 13.73 | 12.73
67 | 13.88 | 12.88
68 | 14.03 | 13.03
69 | 14.18 | 13.18
70 | 14.33 | 13.33
Oversized | 18.15 | 18.15

c. Balloon Price

Pieces exceeding 84 inches in length and girth combined (but not more than 108 inches) and weighing less than 20 pounds are subject to a price equal to that for a 20-pound parcel for the zone to which the parcel is addressed.

d. Oversized Pieces

Regardless of weight, any piece that measures more than 108 inches (but not more than 130 inches) in length plus girth must pay the oversized price.

e. Forwarding and Returns

Parcel Select pieces that are forwarded on request of the addressee or forwarded or returned on request of the mailer will be subject to the applicable Parcel Select Nonpresort price, plus $3.00, when forwarded or returned.

Destination Entered—DNDC

a. DNDC—Machinable

Maximum weight (pounds) | DNDC Zones 1 & 2 | DNDC Zone 3 | DNDC Zone 4 | DNDC Zones 5
| ($) | ($) | ($) | ($)
1 | 3.85 | 4.82 | 5.76 | 6.69
2 | 3.85 | 4.82 | 5.76 | 6.69
3 | 4.15 | 5.64 | 6.94 | 7.70
4 | 4.45 | 6.34 | 7.82 | 8.52
5 | 4.73 | 6.99 | 8.42 | 9.25
6 | 5.00 | 7.51 | 9.07 | 9.93
7 | 5.27 | 8.09 | 9.73 | 10.63
8 | 5.53 | 8.67 | 10.36 | 11.30
9 | 5.79 | 9.22 | 10.98 | 11.89
10 | 6.05 | 9.80 | 11.58 | 12.51
11 | 6.31 | 10.35 | 11.95 | 12.94
12 | 6.58 | 10.85 | 12.18 | 13.22
13 | 6.84 | 11.31 | 12.45 | 13.53
14 | 7.10 | 11.67 | 12.68 | 13.74
15 | 7.35 | 12.04 | 12.91 | 13.97
16 | 7.60 | 12.45 | 13.30 | 14.42
17 | 7.86 | 12.65 | 13.54 | 14.61
18 | 8.10 | 12.88 | 13.76 | 14.85
19 | 8.34 | 13.13 | 13.99 | 15.08
20 | 8.57 | 13.33 | 14.13 | 15.22
21 | 8.81 | 13.72 | 14.53 | 15.63
22 | 9.05 | 13.97 | 14.80 | 15.86
23 | 9.30 | 14.27 | 15.06 | 16.11
24 | 9.54 | 14.51 | 15.32 | 16.32
25 | 9.79 | 14.70 | 15.51 | 16.49
26 | 10.03 | 14.98 | 15.83 | 16.70
27 | 10.27 | 15.29 | 16.11 | 16.95
28 | 10.51 | 15.52 | 16.33 | 17.15
29 | 10.75 | 15.74 | 16.56 | 17.40
30 | 10.97 | 16.01 | 16.81 | 17.66
31 | 11.20 | 16.46 | 17.31 | 18.20
32 | 11.43 | 16.72 | 17.58 | 18.44
33 | 11.66 | 16.96 | 17.81 | 18.71
34 | 11.89 | 17.19 | 18.12 | 19.04
35 | 12.13 | 17.37 | 18.33 | 19.23

b. DNDC—Non-Machinable

Maximum weight (pounds) | DNDC Zones 1 & 2 | DNDC Zone 3 | DNDC Zone 4 | DNDC Zones 5
| ($) | ($) | ($) | ($)
1 | 6.21 | 7.18 | 8.12 | 9.05
2 | 6.21 | 7.18 | 8.12 | 9.05
3 | 6.51 | 8.00 | 9.30 | 10.06
4 | 6.81 | 8.70 | 10.18 | 10.88
5 | 7.09 | 9.35 | 10.78 | 11.61
6 | 7.36 | 9.87 | 11.43 | 12.29
7 | 7.63 | 10.45 | 12.09 | 12.99
8 | 7.89 | 11.03 | 12.72 | 13.66
9 | 8.15 | 11.58 | 13.34 | 14.25
10 | 8.41 | 12.16 | 13.94 | 14.87
11 | 8.67 | 12.71 | 14.31 | 15.30
12 | 8.94 | 13.21 | 14.54 | 15.58
13 | 9.20 | 13.67 | 14.81 | 15.89
14 | 9.46 | 14.03 | 15.04 | 16.10
15 | 9.71 | 14.40 | 15.27 | 16.33
16 | 9.96 | 14.81 | 15.66 | 16.78
17 | 10.22 | 15.01 | 15.90 | 16.97
18 | 10.46 | 15.24 | 16.12 | 17.21
19 | 10.70 | 15.49 | 16.35 | 17.44
20 | 10.93 | 15.69 | 16.49 | 17.58
21 | 11.17 | 16.08 | 16.89 | 17.99
22 | 11.41 | 16.33 | 17.16 | 18.22
23 | 11.66 | 16.63 | 17.42 | 18.47
24 | 11.90 | 16.87 | 17.68 | 18.68
25 | 12.15 | 17.06 | 17.87 | 18.85
26 | 12.39 | 17.34 | 18.19 | 19.06
27 | 12.63 | 17.65 | 18.47 | 19.31
28 | 12.87 | 17.88 | 18.69 | 19.51
29 | 13.11 | 18.10 | 18.92 | 19.76
30 | 13.33 | 18.37 | 19.17 | 20.02
31 | 13.56 | 18.82 | 19.67 | 20.56
32 | 13.79 | 19.08 | 19.94 | 20.80
33 | 14.02 | 19.32 | 20.17 | 21.07
34 | 14.25 | 19.55 | 20.48 | 21.40
35 | 14.49 | 19.73 | 20.69 | 21.59
36 | 14.72 | 19.96 | 20.98 | 21.89
37 | 14.95 | 20.20 | 21.27 | 22.19
38 | 15.18 | 20.44 | 21.54 | 22.50
39 | 15.41 | 20.69 | 21.82 | 22.78
40 | 15.64 | 20.89 | 22.11 | 23.08
41 | 15.87 | 21.19 | 22.31 | 23.35
42 | 16.10 | 21.36 | 22.49 | 23.58
43 | 16.33 | 21.57 | 22.66 | 23.86
44 | 16.55 | 21.85 | 22.90 | 24.18
45 | 16.77 | 22.05 | 23.29 | 24.43
46 | 16.99 | 22.53 | 23.72 | 25.11
47 | 17.21 | 22.74 | 23.89 | 25.75
48 | 17.43 | 23.02 | 24.11 | 26.46
49 | 17.64 | 23.30 | 24.34 | 27.17
50 | 17.85 | 23.43 | 24.43 | 27.76
51 | 18.06 | 23.66 | 24.67 | 28.51
52 | 18.27 | 23.99 | 24.88 | 29.31
53 | 18.50 | 24.21 | 25.06 | 30.10
54 | 18.74 | 24.42 | 25.28 | 30.91
55 | 18.99 | 24.63 | 25.51 | 31.35
56 | 19.24 | 24.83 | 25.74 | 31.62
57 | 19.49 | 24.97 | 25.90 | 31.98
58 | 19.75 | 25.25 | 26.14 | 32.35
59 | 20.00 | 25.43 | 26.36 | 32.66
60 | 20.25 | 25.57 | 26.52 | 32.98
61 | 20.50 | 25.74 | 26.67 | 33.20
62 | 20.74 | 25.96 | 26.97 | 33.55
63 | 20.98 | 26.13 | 27.23 | 33.84
64 | 21.22 | 26.34 | 27.53 | 34.22
65 | 21.46 | 26.53 | 27.79 | 34.49
66 | 21.70 | 26.75 | 28.10 | 34.88
67 | 21.94 | 26.89 | 28.37 | 35.14
68 | 22.18 | 27.11 | 28.62 | 35.51
69 | 22.41 | 27.27 | 28.89 | 35.78
70 | 22.65 | 27.50 | 29.21 | 36.13
Oversized | 28.31 | 39.96 | 54.13 | 56.26

c. Balloon Price

Pieces exceeding 84 inches in length and girth combined (but not more than 108 inches) and weighing less than 20 pounds are subject to a price equal to that for a 20-pound parcel for the zone to which the parcel is addressed.

d. Oversized Pieces

Regardless of weight, any piece that measures more than 108 inches (but not more than 130 inches) in length plus girth must pay the oversized price.

e. Forwarding and Returns

Parcel Select pieces that are forwarded on request of the addressee or forwarded or returned on request of the mailer will be subject to the applicable Parcel Select Nonpresort price, plus $3.00, when forwarded or returned.

Non-Destination Entered—ONDC Presort

a. ONDC Presort

Maximum weight (pounds) | Zones 1 & 2 | Zone 3 | Zone 4 | Zone 5 | Zone 6 | Zone 7 | Zone 8
| ($) | ($) | ($) | ($) | ($) | ($) | ($)
1 | 4.28 | 4.33 | 4.44 | 4.49 | 4.55 | 4.60 | 4.65
2 | 4.33 | 4.65 | 5.34 | 6.68 | 7.26 | 7.79 | 8.67
3 | 5.04 | 5.94 | 6.99 | 7.90 | 8.76 | 9.30 | 10.64
4 | 5.79 | 6.86 | 7.93 | 9.23 | 10.19 | 10.88 | 12.03
5 | 6.66 | 8.02 | 8.98 | 10.01 | 10.91 | 11.87 | 12.82
6 | 7.43 | 8.93 | 9.54 | 10.52 | 11.34 | 12.24 | 13.70
7 | 7.95 | 9.72 | 10.07 | 11.39 | 12.05 | 12.66 | 14.58
8 | 8.50 | 9.94 | 10.82 | 11.77 | 12.61 | 13.50 | 15.45
9 | 9.09 | 10.57 | 11.49 | 12.41 | 13.32 | 14.24 | 16.33
10 | 9.72 | 11.28 | 12.26 | 13.24 | 14.23 | 15.20 | 17.21
11 | 10.20 | 11.89 | 12.97 | 14.05 | 15.14 | 16.21 | 18.09
12 | 10.76 | 12.50 | 13.64 | 14.77 | 15.90 | 17.02 | 19.05
13 | 10.94 | 12.83 | 14.08 | 15.33 | 16.63 | 17.82 | 20.00
14 | 11.12 | 13.15 | 14.52 | 15.90 | 17.36 | 18.61 | 20.95
15 | 11.30 | 13.48 | 14.97 | 16.46 | 18.05 | 19.43 | 21.91
16 | 11.49 | 13.79 | 15.41 | 17.03 | 18.71 | 20.21 | 22.87
17 | 12.04 | 14.12 | 15.86 | 17.59 | 19.37 | 21.01 | 23.82
18 | 12.59 | 14.45 | 16.30 | 18.15 | 20.01 | 21.83 | 24.79
19 | 12.79 | 14.77 | 16.74 | 18.72 | 20.66 | 22.62 | 25.73
20 | 12.99 | 15.09 | 17.19 | 19.28 | 21.31 | 23.41 | 26.70
21 | 13.20 | 15.41 | 17.63 | 19.85 | 22.01 | 24.24 | 27.67
22 | 13.40 | 15.74 | 18.07 | 20.41 | 22.70 | 25.05 | 28.66
23 | 13.60 | 16.06 | 18.52 | 20.98 | 23.41 | 25.88 | 29.63
24 | 13.80 | 16.38 | 18.96 | 21.54 | 24.11 | 26.69 | 30.61
25 | 14.01 | 16.71 | 19.41 | 22.11 | 24.81 | 27.51 | 31.58
26 | 14.23 | 17.05 | 19.87 | 22.69 | 25.51 | 28.33 | 32.57
27 | 14.45 | 17.40 | 20.34 | 23.28 | 26.21 | 29.15 | 33.54
28 | 14.68 | 17.74 | 20.79 | 23.86 | 26.91 | 29.97 | 34.51
29 | 14.90 | 18.07 | 21.26 | 24.44 | 27.61 | 30.79 | 35.49
30 | 15.21 | 18.42 | 21.72 | 25.02 | 28.31 | 31.60 | 36.47
31 | 15.55 | 18.76 | 22.18 | 25.60 | 29.01 | 32.43 | 37.45
32 | 15.88 | 19.11 | 22.64 | 26.18 | 29.71 | 33.24 | 38.42
33 | 16.19 | 19.45 | 23.11 | 26.75 | 30.41 | 34.07 | 39.40
34 | 16.56 | 19.80 | 23.57 | 27.33 | 31.11 | 34.88 | 40.38
35 | 16.88 | 20.14 | 24.03 | 27.92 | 31.81 | 35.71 | 41.36
36 | 17.03 | 20.48 | 24.49 | 28.50 | 32.51 | 36.52 | 42.33
37 | 17.23 | 20.82 | 24.96 | 29.08 | 33.21 | 37.33 | 43.32
38 | 17.39 | 21.17 | 25.42 | 29.66 | 33.91 | 38.16 | 44.29
39 | 17.55 | 21.51 | 25.88 | 30.24 | 34.61 | 38.97 | 45.27
40 | 17.70 | 21.86 | 26.34 | 30.82 | 35.31 | 39.80 | 46.24
41 | 17.88 | 22.20 | 26.81 | 31.40 | 36.01 | 40.61 | 47.23
42 | 18.05 | 22.55 | 27.27 | 31.98 | 36.71 | 41.43 | 48.20
43 | 18.21 | 22.88 | 27.73 | 32.57 | 37.41 | 42.25 | 49.18
44 | 18.37 | 23.23 | 28.19 | 33.15 | 38.12 | 43.07 | 50.15
45 | 18.53 | 23.57 | 28.66 | 33.73 | 38.81 | 43.89 | 51.14
46 | 18.73 | 23.92 | 29.12 | 34.31 | 39.51 | 44.71 | 52.11
47 | 18.94 | 24.26 | 29.57 | 34.89 | 40.21 | 45.52 | 53.09
48 | 19.16 | 24.61 | 30.04 | 35.47 | 40.92 | 46.35 | 54.07
49 | 19.40 | 24.95 | 30.51 | 36.05 | 41.61 | 47.16 | 55.05
50 | 19.62 | 25.29 | 30.96 | 36.64 | 42.31 | 47.99 | 56.02
51 | 19.84 | 25.48 | 31.22 | 37.01 | 42.92 | 48.80 | 57.00
52 | 20.06 | 25.67 | 31.48 | 37.38 | 43.53 | 49.63 | 57.98
53 | 20.29 | 25.86 | 31.74 | 37.75 | 44.13 | 50.44 | 58.96
54 | 20.52 | 26.06 | 32.00 | 38.10 | 44.74 | 51.26 | 59.93
55 | 20.74 | 26.25 | 32.26 | 38.47 | 45.35 | 52.08 | 60.91
56 | 20.96 | 26.44 | 32.51 | 38.84 | 45.96 | 52.90 | 61.89
57 | 21.19 | 26.63 | 32.78 | 39.21 | 46.56 | 53.72 | 62.87
58 | 21.41 | 26.83 | 33.03 | 39.57 | 47.17 | 54.54 | 63.84
59 | 21.64 | 27.02 | 33.28 | 39.94 | 47.78 | 55.36 | 64.83
60 | 21.86 | 27.21 | 33.55 | 40.31 | 48.39 | 56.18 | 65.80
61 | 22.09 | 27.40 | 33.80 | 40.68 | 48.99 | 56.99 | 66.78
62 | 22.31 | 27.59 | 34.07 | 41.04 | 49.61 | 57.82 | 67.75
63 | 22.54 | 27.78 | 34.32 | 41.41 | 50.21 | 58.63 | 68.74
64 | 22.76 | 27.97 | 34.59 | 41.78 | 50.82 | 59.46 | 69.71
65 | 22.99 | 28.16 | 34.84 | 42.15 | 51.42 | 60.27 | 70.69
66 | 23.21 | 28.35 | 35.09 | 42.52 | 52.04 | 61.09 | 71.66
67 | 23.43 | 28.54 | 35.36 | 42.88 | 52.64 | 61.91 | 72.64
68 | 23.66 | 28.74 | 35.61 | 43.25 | 53.25 | 62.72 | 73.62
69 | 23.88 | 28.93 | 35.87 | 43.62 | 53.85 | 63.55 | 74.59
70 | 24.11 | 29.12 | 36.13 | 43.99 | 54.47 | 64.36 | 75.58
Oversized | 68.68 | 77.23 | 78.94 | 81.30 | 102.88 | 111.43 | 119.98

c. Balloon Price

Pieces exceeding 84 inches in length and girth combined (but not more than 108 inches) and weighing less than 20 pounds are subject to a price equal to that for a 20-pound parcel for the zone to which the parcel is addressed.

d. Oversized Pieces

Regardless of weight, any piece that measures more than 108 inches (but not more than 130 inches) in length plus girth must pay the oversized price.

e. Forwarding and Returns

Parcel Select pieces that are forwarded on request of the addressee or forwarded or returned on request of the mailer will be subject to the applicable Parcel Select Nonpresort price, plus $3.00, when forwarded or returned.

Non-Destination Entered—NDC Presort

a. NDC Presort

Maximum weight (pounds) | Zones 1 & 2 | Zone 3 | Zone 4 | Zone 5 | Zone 6 | Zone 7 | Zone 8
| ($) | ($) | ($) | ($) | ($) | ($) | ($)
1 | 5.18 | 5.24 | 5.34 | 5.39 | 5.44 | 5.50 | 5.55
2 | 5.24 | 5.55 | 6.23 | 7.55 | 8.12 | 8.65 | 9.51
3 | 5.93 | 6.82 | 7.85 | 8.75 | 9.61 | 10.14 | 11.46
4 | 6.68 | 7.73 | 8.78 | 10.06 | 11.01 | 11.69 | 12.83
5 | 7.53 | 8.88 | 9.83 | 10.84 | 11.72 | 12.67 | 13.61
6 | 8.29 | 9.77 | 10.38 | 11.34 | 12.15 | 13.04 | 14.48
7 | 8.80 | 10.56 | 10.90 | 12.20 | 12.85 | 13.45 | 15.34
8 | 9.35 | 10.76 | 11.64 | 12.58 | 13.40 | 14.28 | 16.21
9 | 9.93 | 11.39 | 12.30 | 13.20 | 14.10 | 15.01 | 17.07
10 | 10.56 | 12.09 | 13.06 | 14.03 | 15.00 | 15.96 | 17.94
11 | 11.02 | 12.69 | 13.76 | 14.82 | 15.90 | 16.96 | 18.81
12 | 11.58 | 13.30 | 14.41 | 15.53 | 16.65 | 17.75 | 19.75
13 | 11.75 | 13.62 | 14.85 | 16.08 | 17.37 | 18.54 | 20.69
14 | 11.93 | 13.93 | 15.29 | 16.65 | 18.09 | 19.33 | 21.63
15 | 12.11 | 14.26 | 15.73 | 17.20 | 18.77 | 20.13 | 22.58
16 | 12.30 | 14.57 | 16.17 | 17.76 | 19.42 | 20.90 | 23.53
17 | 12.84 | 14.89 | 16.60 | 18.32 | 20.08 | 21.69 | 24.47
18 | 13.38 | 15.22 | 17.04 | 18.87 | 20.70 | 22.50 | 25.42
19 | 13.58 | 15.53 | 17.48 | 19.43 | 21.35 | 23.28 | 26.35
20 | 13.78 | 15.85 | 17.92 | 19.98 | 21.99 | 24.06 | 27.31
21 | 13.99 | 16.17 | 18.36 | 20.55 | 22.67 | 24.88 | 28.27
22 | 14.18 | 16.49 | 18.79 | 21.10 | 23.36 | 25.68 | 29.24
23 | 14.38 | 16.80 | 19.23 | 21.66 | 24.06 | 26.49 | 30.19
24 | 14.58 | 17.13 | 19.67 | 22.22 | 24.75 | 27.30 | 31.16
25 | 14.78 | 17.45 | 20.11 | 22.78 | 25.44 | 28.11 | 32.12
26 | 15.00 | 17.78 | 20.57 | 23.35 | 26.13 | 28.91 | 33.09
27 | 15.22 | 18.13 | 21.03 | 23.93 | 26.83 | 29.73 | 34.05
28 | 15.45 | 18.46 | 21.48 | 24.50 | 27.51 | 30.53 | 35.01
29 | 15.67 | 18.79 | 21.93 | 25.07 | 28.20 | 31.34 | 35.98
30 | 15.97 | 19.14 | 22.39 | 25.65 | 28.89 | 32.15 | 36.94
31 | 16.30 | 19.47 | 22.84 | 26.22 | 29.59 | 32.96 | 37.91
32 | 16.63 | 19.82 | 23.30 | 26.79 | 30.28 | 33.76 | 38.87
33 | 16.94 | 20.15 | 23.76 | 27.36 | 30.97 | 34.58 | 39.84
34 | 17.30 | 20.49 | 24.22 | 27.93 | 31.66 | 35.38 | 40.80
35 | 17.62 | 20.83 | 24.67 | 28.51 | 32.34 | 36.19 | 41.77
36 | 17.76 | 21.17 | 25.13 | 29.08 | 33.04 | 37.00 | 42.73
37 | 17.96 | 21.51 | 25.58 | 29.65 | 33.73 | 37.80 | 43.70
38 | 18.12 | 21.85 | 26.04 | 30.23 | 34.42 | 38.61 | 44.66
39 | 18.27 | 22.18 | 26.49 | 30.80 | 35.11 | 39.41 | 45.63
40 | 18.43 | 22.53 | 26.95 | 31.37 | 35.81 | 40.23 | 46.59
41 | 18.61 | 22.86 | 27.41 | 31.95 | 36.49 | 41.03 | 47.56
42 | 18.77 | 23.21 | 27.87 | 32.52 | 37.18 | 41.85 | 48.52
43 | 18.93 | 23.54 | 28.32 | 33.09 | 37.87 | 42.65 | 49.49
44 | 19.09 | 23.88 | 28.78 | 33.67 | 38.57 | 43.46 | 50.45
45 | 19.24 | 24.22 | 29.24 | 34.24 | 39.26 | 44.26 | 51.42
46 | 19.44 | 24.56 | 29.69 | 34.82 | 39.95 | 45.08 | 52.38
47 | 19.65 | 24.90 | 30.14 | 35.39 | 40.64 | 45.88 | 53.35
48 | 19.87 | 25.24 | 30.60 | 35.96 | 41.33 | 46.70 | 54.31
49 | 20.10 | 25.57 | 31.06 | 36.54 | 42.02 | 47.50 | 55.28
50 | 20.32 | 25.92 | 31.51 | 37.11 | 42.71 | 48.31 | 56.24
51 | 20.54 | 26.11 | 31.77 | 37.47 | 43.32 | 49.11 | 57.21
52 | 20.76 | 26.29 | 32.02 | 37.84 | 43.91 | 49.93 | 58.17
53 | 20.99 | 26.48 | 32.28 | 38.21 | 44.50 | 50.73 | 59.14
54 | 21.20 | 26.67 | 32.53 | 38.56 | 45.11 | 51.55 | 60.10
55 | 21.42 | 26.86 | 32.79 | 38.92 | 45.70 | 52.35 | 61.07
56 | 21.64 | 27.04 | 33.04 | 39.29 | 46.31 | 53.16 | 62.03
57 | 21.87 | 27.23 | 33.30 | 39.65 | 46.90 | 53.96 | 63.00
58 | 22.09 | 27.43 | 33.55 | 40.01 | 47.51 | 54.78 | 63.96
59 | 22.31 | 27.62 | 33.80 | 40.37 | 48.10 | 55.58 | 64.93
60 | 22.53 | 27.81 | 34.06 | 40.74 | 48.71 | 56.40 | 65.89
61 | 22.76 | 27.99 | 34.31 | 41.10 | 49.30 | 57.20 | 66.86
62 | 22.98 | 28.18 | 34.58 | 41.46 | 49.91 | 58.01 | 67.82
63 | 23.20 | 28.37 | 34.83 | 41.82 | 50.50 | 58.81 | 68.79
64 | 23.42 | 28.56 | 35.09 | 42.19 | 51.11 | 59.63 | 69.75
65 | 23.64 | 28.75 | 35.34 | 42.55 | 51.70 | 60.43 | 70.72
66 | 23.86 | 28.93 | 35.59 | 42.92 | 52.31 | 61.24 | 71.67
67 | 24.08 | 29.12 | 35.85 | 43.27 | 52.90 | 62.05 | 72.63
68 | 24.30 | 29.32 | 36.10 | 43.64 | 53.51 | 62.85 | 73.60
69 | 24.52 | 29.51 | 36.36 | 44.00 | 54.10 | 63.66 | 74.56
70 | 24.75 | 29.69 | 36.61 | 44.37 | 54.71 | 64.47 | 75.53
Oversized | 68.73 | 77.17 | 78.85 | 81.19 | 102.47 | 110.91 | 119.35

c. Balloon Price

Pieces exceeding 84 inches in length and girth combined (but not more than 108 inches) and weighing less than 20 pounds are subject to a price equal to that for a 20-pound parcel for the zone to which the parcel is addressed.

d. Oversized Pieces

Regardless of weight, any piece that measures more than 108 inches (but not more than 130 inches) in length plus girth must pay the oversized price.

e. Forwarding and Returns

Parcel Select pieces that are forwarded on request of the addressee or forwarded or returned on request of the mailer will be subject to the applicable Parcel Select Nonpresort price, plus $3.00, when forwarded or returned.

Non-Destination Entered—Nonpresort

a. Nonpresort

Maximum weight (pounds) | Zones 1 & 2 | Zone 3 | Zone 4 | Zone 5 | Zone 6 | Zone 7 | Zone 8
| ($) | ($) | ($) | ($) | ($) | ($) | ($)
1 | 5.42 | 5.47 | 5.57 | 5.63 | 5.68 | 5.73 | 5.78
2 | 5.47 | 5.75 | 6.43 | 7.76 | 8.33 | 8.85 | 9.71
3 | 6.14 | 7.02 | 8.05 | 8.98 | 9.84 | 10.37 | 11.69
4 | 6.88 | 7.93 | 8.98 | 10.29 | 11.24 | 11.92 | 13.06
5 | 7.76 | 9.08 | 10.02 | 11.07 | 11.92 | 12.87 | 13.81
6 | 8.52 | 10.00 | 10.59 | 11.57 | 12.35 | 13.23 | 14.67
7 | 9.03 | 10.78 | 11.13 | 12.43 | 13.05 | 13.68 | 15.54
8 | 9.54 | 10.99 | 11.84 | 12.81 | 13.62 | 14.47 | 16.40
9 | 10.13 | 11.59 | 12.49 | 13.40 | 14.30 | 15.20 | 17.27
10 | 10.75 | 12.29 | 13.25 | 14.22 | 15.19 | 16.15 | 18.13
11 | 11.22 | 12.89 | 13.95 | 15.02 | 16.09 | 17.15 | 19.00
12 | 11.77 | 13.49 | 14.61 | 15.72 | 16.84 | 17.94 | 19.94
13 | 11.95 | 13.82 | 15.05 | 16.28 | 17.56 | 18.74 | 20.88
14 | 12.13 | 14.13 | 15.48 | 16.84 | 18.28 | 19.52 | 21.82
15 | 12.31 | 14.45 | 15.92 | 17.39 | 18.96 | 20.32 | 22.77
16 | 12.49 | 14.77 | 16.36 | 17.95 | 19.61 | 21.09 | 23.72
17 | 13.04 | 15.09 | 16.80 | 18.51 | 20.27 | 21.88 | 24.65
18 | 13.58 | 15.41 | 17.23 | 19.06 | 20.89 | 22.68 | 25.60
19 | 13.78 | 15.72 | 17.67 | 19.62 | 21.54 | 23.47 | 26.53
20 | 13.97 | 16.05 | 18.11 | 20.17 | 22.17 | 24.25 | 27.49
21 | 14.18 | 16.36 | 18.55 | 20.74 | 22.86 | 25.06 | 28.45
22 | 14.38 | 16.68 | 18.99 | 21.29 | 23.55 | 25.86 | 29.42
23 | 14.58 | 17.00 | 19.42 | 21.85 | 24.25 | 26.68 | 30.37
24 | 14.78 | 17.32 | 19.86 | 22.40 | 24.94 | 27.48 | 31.34
25 | 14.97 | 17.64 | 20.30 | 22.97 | 25.62 | 28.29 | 32.30
26 | 15.19 | 17.97 | 20.76 | 23.54 | 26.31 | 29.09 | 33.27
27 | 15.41 | 18.32 | 21.22 | 24.11 | 27.01 | 29.91 | 34.23
28 | 15.64 | 18.65 | 21.66 | 24.68 | 27.70 | 30.71 | 35.19
29 | 15.86 | 18.99 | 22.12 | 25.26 | 28.38 | 31.52 | 36.16
30 | 16.19 | 19.33 | 22.58 | 25.83 | 29.07 | 32.32 | 37.12
31 | 16.53 | 19.66 | 23.03 | 26.40 | 29.77 | 33.14 | 38.09
32 | 16.85 | 20.01 | 23.49 | 26.98 | 30.46 | 33.94 | 39.04
33 | 17.16 | 20.34 | 23.95 | 27.54 | 31.15 | 34.75 | 40.01
34 | 17.53 | 20.68 | 24.40 | 28.11 | 31.83 | 35.55 | 40.97
35 | 17.84 | 21.02 | 24.85 | 28.69 | 32.52 | 36.37 | 41.94
36 | 17.98 | 21.36 | 25.31 | 29.26 | 33.22 | 37.17 | 42.90
37 | 18.18 | 21.69 | 25.77 | 29.83 | 33.91 | 37.97 | 43.87
38 | 18.34 | 22.04 | 26.23 | 30.41 | 34.59 | 38.78 | 44.83
39 | 18.50 | 22.37 | 26.68 | 30.98 | 35.28 | 39.59 | 45.80
40 | 18.65 | 22.72 | 27.13 | 31.55 | 35.98 | 40.40 | 46.75
41 | 18.83 | 23.05 | 27.59 | 32.12 | 36.67 | 41.20 | 47.72
42 | 19.00 | 23.39 | 28.05 | 32.70 | 37.36 | 42.01 | 48.68
43 | 19.15 | 23.73 | 28.50 | 33.27 | 38.04 | 42.82 | 49.65
44 | 19.31 | 24.07 | 28.96 | 33.84 | 38.74 | 43.63 | 50.61
45 | 19.46 | 24.40 | 29.42 | 34.42 | 39.43 | 44.43 | 51.58
46 | 19.66 | 24.75 | 29.87 | 34.99 | 40.12 | 45.24 | 52.54
47 | 19.84 | 25.08 | 30.32 | 35.56 | 40.80 | 46.05 | 53.51
48 | 20.06 | 25.42 | 30.78 | 36.14 | 41.50 | 46.86 | 54.47
49 | 20.29 | 25.76 | 31.24 | 36.71 | 42.19 | 47.66 | 55.43
50 | 20.51 | 26.10 | 31.69 | 37.28 | 42.88 | 48.47 | 56.39
51 | 20.73 | 26.29 | 31.95 | 37.65 | 43.48 | 49.28 | 57.36
52 | 20.94 | 26.48 | 32.20 | 38.01 | 44.08 | 50.09 | 58.32
53 | 21.17 | 26.66 | 32.46 | 38.38 | 44.67 | 50.89 | 59.29
54 | 21.39 | 26.85 | 32.71 | 38.73 | 45.27 | 51.70 | 60.25
55 | 21.61 | 27.04 | 32.97 | 39.10 | 45.87 | 52.51 | 61.22
56 | 21.83 | 27.23 | 33.22 | 39.46 | 46.47 | 53.32 | 62.18
57 | 22.06 | 27.42 | 33.48 | 39.83 | 47.07 | 54.12 | 63.15
58 | 22.28 | 27.61 | 33.73 | 40.18 | 47.67 | 54.93 | 64.10
59 | 22.50 | 27.80 | 33.98 | 40.54 | 48.27 | 55.74 | 65.07
60 | 22.72 | 27.99 | 34.24 | 40.91 | 48.87 | 56.55 | 66.03
61 | 22.94 | 28.18 | 34.49 | 41.27 | 49.46 | 57.35 | 67.00
62 | 23.16 | 28.36 | 34.75 | 41.63 | 50.07 | 58.16 | 67.96
63 | 23.38 | 28.55 | 35.00 | 41.99 | 50.66 | 58.97 | 68.93
64 | 23.60 | 28.74 | 35.26 | 42.36 | 51.27 | 59.78 | 69.89
65 | 23.83 | 28.93 | 35.51 | 42.72 | 51.86 | 60.58 | 70.86
66 | 24.05 | 29.11 | 35.76 | 43.09 | 52.46 | 61.39 | 71.81
67 | 24.27 | 29.30 | 36.02 | 43.44 | 53.06 | 62.20 | 72.77
68 | 24.49 | 29.50 | 36.27 | 43.81 | 53.66 | 63.00 | 73.74
69 | 24.71 | 29.69 | 36.53 | 44.17 | 54.26 | 63.81 | 74.70
70 | 24.94 | 29.87 | 36.78 | 44.54 | 54.86 | 64.61 | 75.67
Oversized | 64.40 | 67.37 | 68.71 | 70.74 | 94.74 | 100.89 | 111.66

b. Balloon Price

Pieces exceeding 84 inches in length and girth combined (but not more than 108 inches) and weighing less than 20 pounds are subject to a price equal to that for a 20-pound parcel for the zone to which the parcel is addressed.

c. Oversized Pieces

Regardless of weight, any piece that measures more than 108 inches (but not more than 130 inches) in length plus girth must pay the oversized price.

d. Forwarding and Returns

Parcel Select pieces that are forwarded on request of the addressee or forwarded or returned on request of the mailer will be subject to the applicable Parcel Select Nonpresort price, plus $3.00, when forwarded or returned.

Machinable Lightweight Parcels
[3.5 ounces or greater]
Maximum weight (ounces) | Entry point/sortation level: DDU/5-Digit ($) | Entry point/sortation level: DSCF/5-Digit ($) | Entry point/sortation level: DNDC/5-Digit ($) | Entry point/sortation level: DNDC/NDC ($) | Entry point/sortation level: None/NDC ($) | Entry point/sortation level: None/mixed NDC ($)
1 | N/A | N/A | N/A | N/A | N/A | N/A
2 | N/A | N/A | N/A | N/A | N/A | N/A
3 | N/A | N/A | N/A | N/A | N/A | N/A
4 | 0.92 | 0.95 | 1.01 | 1.36 | 1.40 | 1.81
5 | 0.94 | 0.98 | 1.06 | 1.41 | 1.46 | 1.87
6 | 0.97 | 1.02 | 1.11 | 1.45 | 1.52 | 1.93
7 | 1.00 | 1.06 | 1.17 | 1.51 | 1.60 | 2.01
8 | 1.02 | 1.09 | 1.21 | 1.55 | 1.65 | 2.06
9 | 1.05 | 1.13 | 1.26 | 1.60 | 1.71 | 2.12
10 | 1.08 | 1.17 | 1.31 | 1.65 | 1.78 | 2.19
11 | 1.10 | 1.21 | 1.37 | 1.71 | 1.85 | 2.26
12 | 1.13 | 1.25 | 1.42 | 1.77 | 1.92 | 2.32
13 | 1.16 | 1.29 | 1.48 | 1.83 | 1.99 | 2.39
14 | 1.18 | 1.33 | 1.53 | 1.88 | 2.06 | 2.46
15 | 1.21 | 1.37 | 1.59 | 1.94 | 2.13 | 2.53
16 | 1.24 | 1.42 | 1.65 | 2.00 | 2.21 | 2.61

Irregular Lightweight Parcels
Maximum weight (ounces) | Entry point/sortation level: DDU/5-Digit ($) | Entry point/sortation level: DSCF/ 5-Digit ($) | Entry point/sortation level: DNDC/ 5-Digit ($) | Entry point/sortation level: DSCF/SCF ($) | Entry point/sortation level: DNDC/SCF ($) | Entry point/sortation level: DNDC/NDC ($) | Entry point/sortation level: None/NDC ($) | Entry point/sortation level: None/mixed NDC ($)
1 | 0.90 | 0.92 | 0.98 | 0.96 | 1.02 | 1.44 | 1.48 | 1.93
2 | 0.90 | 0.92 | 0.98 | 0.96 | 1.02 | 1.44 | 1.48 | 1.93
3 | 0.90 | 0.92 | 0.98 | 0.96 | 1.02 | 1.44 | 1.48 | 1.93
4 | 0.92 | 0.95 | 1.01 | 0.99 | 1.05 | 1.48 | 1.52 | 1.99
5 | 0.94 | 0.98 | 1.06 | 1.02 | 1.10 | 1.53 | 1.58 | 2.05
6 | 0.97 | 1.02 | 1.11 | 1.06 | 1.15 | 1.57 | 1.64 | 2.11
7 | 1.00 | 1.06 | 1.17 | 1.10 | 1.21 | 1.63 | 1.72 | 2.19
8 | 1.02 | 1.09 | 1.21 | 1.13 | 1.25 | 1.67 | 1.77 | 2.24
9 | 1.05 | 1.13 | 1.26 | 1.17 | 1.30 | 1.72 | 1.83 | 2.30
10 | 1.08 | 1.17 | 1.31 | 1.21 | 1.35 | 1.77 | 1.90 | 2.37
11 | 1.10 | 1.21 | 1.37 | 1.25 | 1.41 | 1.83 | 1.97 | 2.44
12 | 1.13 | 1.25 | 1.42 | 1.29 | 1.46 | 1.89 | 2.04 | 2.50
13 | 1.16 | 1.29 | 1.48 | 1.33 | 1.52 | 1.95 | 2.11 | 2.57
14 | 1.18 | 1.33 | 1.53 | 1.37 | 1.57 | 2.00 | 2.18 | 2.64
15 | 1.21 | 1.37 | 1.59 | 1.41 | 1.63 | 2.06 | 2.25 | 2.71
16 | 1.24 | 1.42 | 1.65 | 1.46 | 1.69 | 2.12 | 2.33 | 2.79

2120 Parcel Return Service

Attachments and Enclosures

a. First-Class Mail or Standard Mail pieces may be attached to or enclosed in Parcel Return Service mail. Additional postage may be required. Parcel Return Service mail may have limited written additions placed on the wrapper, on a tag or label attached to the outside of the parcel, or inside the parcel, either loose or attached to the article.

2120.3 Minimum Volume Requirements

PRS Full network | 50,000 Pieces annually
Minimum Volume Requirements
All other Parcel Return Service | none.

2120.4 Price Categories

• RNDC—Contains merchandise and is retrieved in bulk at a network distribution center, or other equivalent facility

• Machinable

• Nonmachinable

• Balloon Price

• Oversized

• RSCF—Contains merchandise and is retrieved in bulk at a return sectional center facility, or other equivalent facility

• Machinable

• Nonmachinable

• Balloon Price

• Oversized

• RDU—Contains merchandise and is retrieved in bulk at a designated destination delivery unit, or other equivalent facility

• Machinable

• Nonmachinable

• Oversized

• PRS Full Network—Contains merchandise and is delivered in bulk to addressee

• Balloon Price

• Oversized

* * * * *

2120.6 Prices

RNDC Entered

a. Machinable RNDC

Maximum weight (pounds) | RNDC ($)
1 | 3.65
2 | 3.99
3 | 4.34
4 | 4.59
5 | 4.94
6 | 5.29
7 | 5.64
8 | 5.99
9 | 6.34
10 | 6.69
11 | 6.99
12 | 7.29
13 | 7.59
14 | 7.89
15 | 8.19
16 | 8.44
17 | 8.69
18 | 8.94
19 | 9.19
20 | 9.44
21 | 9.64
22 | 9.84
23 | 10.04
24 | 10.24
25 | 10.42
26 | 10.58
27 | 10.74
28 | 10.90
29 | 11.06
30 | 11.20
31 | 11.34
32 | 11.48
33 | 11.62
34 | 11.74
35 | 11.86

b. Nonmachinable RNDC

Maximum weight (pounds) | RNDC ($)
1 | 6.07
2 | 6.41
3 | 6.76
4 | 7.01
5 | 7.36
6 | 7.71
7 | 8.06
8 | 8.41
9 | 8.76
10 | 9.11
11 | 9.41
12 | 9.71
13 | 10.01
14 | 10.31
15 | 10.61
16 | 10.86
17 | 11.11
18 | 11.36
19 | 11.61
20 | 11.86
21 | 12.06
22 | 12.26
23 | 12.46
24 | 12.66
25 | 12.84
26 | 13.00
27 | 13.16
28 | 13.32
29 | 13.48
30 | 13.62
31 | 13.76
32 | 13.90
33 | 14.04
34 | 14.16
35 | 14.28
36 | 14.40
37 | 14.52
38 | 14.62
39 | 14.72
40 | 14.82
41 | 14.90
42 | 14.98
43 | 15.06
44 | 15.14
45 | 15.22
46 | 15.30
47 | 15.38
48 | 15.45
49 | 15.52
50 | 15.59
51 | 15.66
52 | 15.72
53 | 15.78
54 | 15.84
55 | 15.89
56 | 15.94
57 | 15.99
58 | 16.04
59 | 16.08
60 | 16.12
61 | 16.16
62 | 16.20
63 | 16.24
64 | 16.28
65 | 16.31
66 | 16.34
67 | 16.37
68 | 16.40
69 | 16.42
70 | 16.47
Oversized | 34.20

c. Balloon Price

RNDC entered pieces exceeding 84 inches in length and girth combined, but not more than 108 inches, and weighing less than 20 pounds are subject to a price equal to that for a 20-pound parcel for the zone to which the parcel is addressed.

d. Oversized Pieces

Regardless of weight, any piece that measures more than 108 inches (but not more than 130 inches) in length plus girth must pay the oversized price.

RSCF Entered

a. Machinable RSCF

Maximum weight (pounds) | RSCF ($)
1 | 2.94
2 | 3.29
3 | 3.52
4 | 3.75
5 | 3.98
6 | 4.26
7 | 4.51
8 | 4.76
9 | 5.04
10 | 5.29
11 | 5.56
12 | 5.83
13 | 6.09
14 | 6.36
15 | 6.62
16 | 6.87
17 | 7.12
18 | 7.37
19 | 7.62
20 | 7.87
21 | 8.07
22 | 8.27
23 | 8.47
24 | 8.67
25 | 8.83
26 | 8.99
27 | 9.15
28 | 9.31
29 | 9.47
30 | 9.63
31 | 9.79
32 | 9.95
33 | 10.11
34 | 10.27
35 | 10.43

b. Nonmachinable RSCF

Maximum weight (pounds) | RSCF ($)
1 | 5.36
2 | 5.71
3 | 5.94
4 | 6.17
5 | 6.40
6 | 6.68
7 | 6.93
8 | 7.18
9 | 7.46
10 | 7.71
11 | 7.98
12 | 8.25
13 | 8.51
14 | 8.78
15 | 9.04
16 | 9.29
17 | 9.54
18 | 9.79
19 | 10.04
20 | 10.29
21 | 10.49
22 | 10.69
23 | 10.89
24 | 11.09
25 | 11.25
26 | 11.41
27 | 11.57
28 | 11.73
29 | 11.89
30 | 12.05
31 | 12.21
32 | 12.37
33 | 12.53
34 | 12.69
35 | 12.85
36 | 13.01
37 | 13.17
38 | 13.29
39 | 13.41
40 | 13.53
41 | 13.65
42 | 13.77
43 | 13.89
44 | 13.97
45 | 14.05
46 | 14.13
47 | 14.21
48 | 14.26
49 | 14.31
50 | 14.36
51 | 14.41
52 | 14.46
53 | 14.51
54 | 14.56
55 | 14.61
56 | 14.66
57 | 14.71
58 | 14.75
59 | 14.79
60 | 14.83
61 | 14.87
62 | 14.91
63 | 14.95
64 | 14.97
65 | 14.99
66 | 15.01
67 | 15.03
68 | 15.05
69 | 15.07
70 | 15.09
Oversized | 24.31

c. Balloon Price

RSCF entered pieces exceeding 84 inches in length and girth combined, but not more than 108 inches, and weighing less than 20 pounds are subject to a price equal to that for a 20-pound parcel for the zone to which the parcel is addressed.

d. Oversized Pieces

Regardless of weight, any piece that measures more than 108 inches (but not more than 130 inches) in length plus girth must pay the oversized price.

RDU Entered

a. Machinable RDU

Maximum weight (pounds) | RDU ($)
1 | 2.24
2 | 2.26
3 | 2.28
4 | 2.30
5 | 2.32
6 | 2.34
7 | 2.36
8 | 2.38
9 | 2.40
10 | 2.42
11 | 2.45
12 | 2.49
13 | 2.54
14 | 2.59
15 | 2.67
16 | 2.74
17 | 2.82
18 | 2.88
19 | 2.96
20 | 3.02
21 | 3.08
22 | 3.13
23 | 3.19
24 | 3.24
25 | 3.31
26 | 3.36
27 | 3.41
28 | 3.45
29 | 3.50
30 | 3.54
31 | 3.58
32 | 3.64
33 | 3.68
34 | 3.71
35 | 3.75

b. Nonmachinable RDU

Maximum weight (pounds) | RDU ($)
1 | 2.24
2 | 2.26
3 | 2.28
4 | 2.30
5 | 2.32
6 | 2.34
7 | 2.36
8 | 2.38
9 | 2.40
10 | 2.42
11 | 2.45
12 | 2.49
13 | 2.54
14 | 2.59
15 | 2.67
16 | 2.74
17 | 2.82
18 | 2.88
19 | 2.96
20 | 3.02
21 | 3.08
22 | 3.13
23 | 3.19
24 | 3.24
25 | 3.31
26 | 3.36
27 | 3.41
28 | 3.45
29 | 3.50
30 | 3.54
31 | 3.58
32 | 3.64
33 | 3.68
34 | 3.71
35 | 3.75
36 | 3.80
37 | 3.83
38 | 3.87
39 | 3.90
40 | 3.93
41 | 3.97
42 | 4.00
43 | 4.03
44 | 4.06
45 | 4.09
46 | 4.12
47 | 4.14
48 | 4.17
49 | 4.20
50 | 4.22
51 | 4.24
52 | 4.28
53 | 4.31
54 | 4.33
55 | 4.35
56 | 4.38
57 | 4.40
58 | 4.42
59 | 4.44
60 | 4.45
61 | 4.47
62 | 4.49
63 | 4.51
64 | 4.53
65 | 4.54
66 | 4.56
67 | 4.57
68 | 4.59
69 | 4.61
70 | 4.62
Oversized | 7.91

c. Oversized Pieces

Regardless of weight, any piece that measures more than 108 inches (but not more than 130 inches) in length plus girth must pay the oversized price.

PRS Full Network
Maximum weight (pounds) | Zones 1 & 2 | Zone 3 | Zone 4 | Zone 5 | Zone 6 | Zone 7 | Zone 8
| ($) | ($) | ($) | ($) | ($) | ($) | ($)
1 | 4.69 | 4.96 | 5.04 | 5.24 | 5.46 | 5.53 | 5.62
2 | 4.96 | 5.26 | 5.66 | 5.76 | 6.06 | 6.17 | 6.36
3 | 5.03 | 5.46 | 5.92 | 6.09 | 6.39 | 6.55 | 6.98
4 | 5.14 | 5.61 | 6.19 | 6.45 | 6.68 | 6.95 | 7.44
5 | 5.28 | 5.68 | 6.43 | 6.69 | 6.92 | 7.22 | 7.81
6 | 5.41 | 5.83 | 6.52 | 6.84 | 7.02 | 7.42 | 7.98
7 | 5.65 | 5.99 | 6.64 | 7.00 | 7.22 | 7.60 | 8.22
8 | 5.86 | 6.13 | 6.80 | 7.12 | 7.42 | 7.92 | 8.66
9 | 5.96 | 6.28 | 6.90 | 7.26 | 7.56 | 8.31 | 9.17
10 | 8.18 | 8.39 | 9.37 | 9.96 | 10.51 | 11.86 | 13.08
11 | 8.88 | 9.18 | 9.98 | 10.66 | 11.45 | 13.24 | 14.57
12 | 9.11 | 9.43 | 10.15 | 10.82 | 11.93 | 14.00 | 15.52
13 | 9.34 | 9.66 | 10.27 | 11.06 | 12.44 | 14.82 | 16.49
14 | 9.52 | 9.93 | 10.44 | 11.30 | 13.12 | 15.56 | 17.40
15 | 9.69 | 10.23 | 10.61 | 11.55 | 13.75 | 16.34 | 18.33
16 | 9.84 | 10.36 | 10.68 | 11.76 | 14.26 | 16.90 | 19.06
17 | 9.93 | 10.68 | 11.00 | 12.22 | 14.98 | 17.78 | 20.04
18 | 10.06 | 10.87 | 11.31 | 12.83 | 15.65 | 18.54 | 21.03
19 | 10.18 | 11.23 | 11.72 | 13.37 | 16.31 | 19.31 | 22.03
20 | 10.36 | 11.58 | 12.10 | 13.94 | 17.01 | 20.08 | 23.01
21 | 10.52 | 11.89 | 12.46 | 14.51 | 17.67 | 20.86 | 23.92
22 | 10.76 | 12.24 | 12.90 | 15.03 | 18.38 | 21.65 | 24.94
23 | 10.99 | 12.61 | 13.29 | 15.54 | 19.05 | 22.42 | 25.93
24 | 11.19 | 12.91 | 13.69 | 16.04 | 19.76 | 23.17 | 26.92
25 | 15.34 | 17.26 | 18.59 | 22.00 | 27.47 | 33.08 | 38.41
26 | 15.70 | 18.08 | 19.31 | 22.73 | 28.31 | 33.01 | 38.57
27 | 16.04 | 18.50 | 19.75 | 23.40 | 29.23 | 34.06 | 39.88
28 | 16.32 | 18.93 | 20.36 | 24.10 | 30.13 | 35.05 | 41.23
29 | 16.64 | 19.29 | 20.92 | 24.65 | 30.97 | 35.91 | 42.46
30 | 17.04 | 19.74 | 21.54 | 25.35 | 31.91 | 36.90 | 43.78
31 | 17.29 | 20.05 | 22.01 | 26.02 | 32.77 | 37.88 | 44.99
32 | 17.41 | 20.46 | 22.58 | 26.75 | 33.69 | 38.90 | 46.33
33 | 17.74 | 20.92 | 23.13 | 27.44 | 34.56 | 39.92 | 47.58
34 | 17.90 | 21.38 | 23.63 | 28.13 | 35.50 | 40.95 | 48.91
35 | 18.20 | 21.84 | 24.16 | 28.79 | 36.39 | 41.98 | 50.17
36 | 18.45 | 22.05 | 24.58 | 29.49 | 37.27 | 43.00 | 51.25
37 | 18.77 | 22.54 | 25.04 | 30.13 | 38.07 | 43.98 | 52.23
38 | 19.05 | 22.87 | 25.59 | 30.83 | 38.90 | 45.03 | 53.18
39 | 19.31 | 23.32 | 26.16 | 31.46 | 40.13 | 46.49 | 54.25
40 | 19.50 | 23.84 | 26.72 | 32.10 | 40.92 | 47.46 | 55.14
41 | 19.75 | 24.16 | 27.18 | 32.71 | 41.63 | 48.35 | 55.88
42 | 20.05 | 24.44 | 27.68 | 33.30 | 42.29 | 49.23 | 56.74
43 | 20.29 | 24.85 | 28.23 | 33.99 | 43.06 | 50.24 | 57.72
44 | 20.55 | 25.27 | 28.70 | 34.59 | 43.82 | 51.27 | 58.32
45 | 20.77 | 25.66 | 29.23 | 35.26 | 44.56 | 52.29 | 59.28
46 | 20.98 | 26.02 | 29.58 | 35.90 | 45.27 | 53.33 | 60.25
47 | 21.15 | 26.22 | 30.03 | 36.49 | 45.89 | 54.34 | 61.21
48 | 21.36 | 26.50 | 30.42 | 37.09 | 46.55 | 55.38 | 62.18
49 | 21.54 | 26.78 | 30.81 | 37.72 | 47.14 | 56.39 | 63.12
50 | 21.71 | 27.02 | 31.17 | 37.84 | 47.38 | 56.98 | 64.08
51 | 21.83 | 27.20 | 31.39 | 38.07 | 47.79 | 57.73 | 64.44
52 | 22.01 | 27.37 | 31.61 | 38.57 | 48.26 | 58.50 | 65.38
53 | 22.17 | 27.64 | 31.75 | 39.05 | 48.73 | 59.10 | 66.33
54 | 22.36 | 27.85 | 32.12 | 39.56 | 49.23 | 59.53 | 67.17
55 | 22.55 | 28.03 | 32.39 | 40.14 | 49.58 | 59.73 | 67.94
56 | 22.70 | 28.31 | 32.69 | 40.69 | 49.88 | 59.82 | 68.78
57 | 22.98 | 28.55 | 32.96 | 41.26 | 50.40 | 60.26 | 69.48
58 | 23.20 | 28.79 | 33.26 | 41.69 | 50.96 | 60.63 | 70.04
59 | 23.40 | 29.07 | 33.62 | 42.09 | 51.42 | 60.96 | 70.56
60 | 23.63 | 29.34 | 33.95 | 42.39 | 51.87 | 61.28 | 71.01
61 | 23.87 | 29.57 | 34.23 | 42.87 | 52.32 | 61.64 | 71.42
62 | 24.04 | 29.78 | 34.47 | 43.24 | 52.68 | 61.99 | 71.85
63 | 24.22 | 30.06 | 34.72 | 43.60 | 53.02 | 62.39 | 72.29
64 | 24.44 | 30.38 | 35.00 | 43.90 | 53.39 | 62.80 | 72.70
65 | 24.63 | 30.71 | 35.37 | 44.19 | 53.84 | 63.11 | 73.12
66 | 24.83 | 31.07 | 35.76 | 44.49 | 54.38 | 63.43 | 73.65
67 | 25.02 | 31.39 | 36.11 | 44.74 | 54.82 | 63.74 | 73.85
68 | 25.20 | 31.70 | 36.44 | 45.00 | 55.11 | 64.10 | 74.01
69 | 25.43 | 31.94 | 36.78 | 45.24 | 55.40 | 64.42 | 74.21
70 | 25.59 | 32.22 | 37.02 | 45.41 | 55.52 | 64.64 | 74.86
Oversized | 66.02 | 69.06 | 70.43 | 72.51 | 97.11 | 103.41 | 114.45

a. Balloon Price

Pieces exceeding 84 inches in length and girth combined (but not more than 108 inches) and weighing less than 20 pounds are subject to a price equal to that for a 20-pound parcel for the zone to which the parcel is addressed.

b. Oversized Pieces

Regardless of weight, any piece that measures more than 108 inches (but not more than 130 inches) in length plus girth must pay the oversized price.

2125 First-Class Package Service

* * * * *

2125.6 Prices

Commercial Plus
Weight * (ounces) | 5-Digit ($) | 3-Digit ($) | ADC ($) | Mixed ADC/single-piece ($)
≥3.5 and <16 | 3.37 | 3.57 | 3.77 | 4.05

Commercial Base
Maximum weight * (ounces) | 5-Digit ($) | 3-Digit ($) | ADC ($) | Mixed ADC/single-piece ($)
1 | 1.25 | 1.38 | 1.47 | 1.69
2 | 1.25 | 1.38 | 1.47 | 1.69
3 | 1.25 | 1.38 | 1.47 | 1.69
4 | 1.42 | 1.55 | 1.64 | 1.86
5 | 1.60 | 1.73 | 1.82 | 2.04
6 | 1.77 | 1.90 | 1.99 | 2.21
7 | 1.95 | 2.08 | 2.17 | 2.39
8 | 2.11 | 2.24 | 2.33 | 2.55
9 | 2.29 | 2.42 | 2.51 | 2.73
10 | 2.46 | 2.59 | 2.68 | 2.90
11 | 2.64 | 2.77 | 2.86 | 3.08
12 | 2.79 | 2.92 | 3.01 | 3.23
13 | 2.94 | 3.07 | 3.16 | 3.38

2135.6 Prices

Weight (pounds) | Zones 1 & 2 | Zone 3 | Zone 4 | Zone 5 | Zone 6 | Zone 7 | Zone 8
| ($) | ($) | ($) | ($) | ($) | ($) | ($)
1 | 5.60 | 5.70 | 5.85 | 5.95 | 6.15 | 6.35 | 6.85
2 | 5.80 | 6.15 | 6.85 | 7.53 | 8.16 | 8.92 | 9.79
3 | 6.60 | 7.60 | 8.75 | 8.91 | 10.01 | 10.81 | 12.77
4 | 7.45 | 8.90 | 10.05 | 10.40 | 10.75 | 12.07 | 13.58
5 | 8.85 | 10.20 | 11.50 | 11.64 | 11.76 | 12.66 | 14.20
6 | 9.75 | 11.25 | 12.90 | 13.12 | 13.20 | 14.20 | 16.05
7 | 10.35 | 12.20 | 13.90 | 14.39 | 14.61 | 15.98 | 18.02
8 | 11.10 | 13.30 | 15.55 | 15.66 | 16.05 | 17.62 | 20.20
9 | 11.85 | 14.35 | 16.85 | 16.97 | 17.45 | 19.06 | 22.48
10 | 12.65 | 15.40 | 18.35 | 18.45 | 18.86 | 20.97 | 24.46
11 | 13.50 | 16.45 | 19.80 | 19.94 | 20.23 | 23.15 | 26.87
12 | 14.45 | 17.65 | 21.20 | 21.31 | 22.01 | 25.02 | 28.84
13 | 15.35 | 18.75 | 22.40 | 22.49 | 23.62 | 26.03 | 29.88
14 | 16.25 | 19.90 | 23.75 | 23.91 | 24.92 | 27.50 | 31.36
15 | 16.95 | 21.00 | 25.05 | 25.29 | 26.00 | 28.11 | 32.26
16 | 17.01 | 21.60 | 25.79 | 26.68 | 27.47 | 29.68 | 34.04
17 | 17.11 | 21.70 | 25.89 | 26.80 | 27.59 | 29.81 | 34.17
18 | 17.20 | 21.80 | 25.99 | 26.92 | 27.71 | 29.94 | 34.31
19 | 17.30 | 21.91 | 26.08 | 27.04 | 27.83 | 30.07 | 34.45
20 | 17.39 | 22.01 | 26.18 | 27.15 | 27.96 | 30.21 | 34.58
21 | 17.49 | 22.11 | 26.28 | 27.27 | 28.08 | 30.34 | 34.72
22 | 17.58 | 22.22 | 26.38 | 27.39 | 28.20 | 30.47 | 34.86
23 | 17.68 | 22.32 | 26.48 | 27.51 | 28.33 | 30.61 | 35.00
24 | 17.78 | 22.43 | 26.58 | 27.64 | 28.45 | 30.74 | 35.14
25 | 17.87 | 22.54 | 26.68 | 27.76 | 28.58 | 30.88 | 35.28
26 | 17.97 | 22.64 | 26.79 | 27.88 | 28.70 | 31.01 | 35.42
27 | 18.07 | 22.75 | 26.89 | 28.00 | 28.83 | 31.15 | 35.56
28 | 18.17 | 22.86 | 26.99 | 28.12 | 28.96 | 31.29 | 35.71
29 | 18.27 | 22.97 | 27.09 | 28.25 | 29.08 | 31.42 | 35.85
30 | 18.37 | 23.08 | 27.20 | 28.37 | 29.21 | 31.56 | 35.99
31 | 18.47 | 23.19 | 27.30 | 28.50 | 29.34 | 31.70 | 36.14
32 | 18.57 | 23.30 | 27.40 | 28.62 | 29.47 | 32.10 | 37.06
33 | 18.68 | 23.41 | 27.51 | 28.75 | 29.60 | 32.87 | 37.96
34 | 18.78 | 23.52 | 27.61 | 28.88 | 29.73 | 33.60 | 38.87
35 | 18.88 | 23.63 | 27.72 | 29.00 | 29.86 | 34.37 | 39.77
36 | 18.99 | 23.74 | 27.82 | 29.13 | 30.36 | 35.12 | 40.67
37 | 19.09 | 23.86 | 27.93 | 29.26 | 30.99 | 35.86 | 41.56
38 | 19.20 | 23.97 | 28.03 | 29.39 | 31.59 | 36.61 | 42.49
39 | 19.30 | 24.08 | 28.14 | 29.52 | 32.19 | 37.36 | 43.39
40 | 19.41 | 24.20 | 28.25 | 29.65 | 32.81 | 38.10 | 44.29
41 | 19.51 | 24.31 | 28.35 | 29.78 | 33.43 | 38.84 | 45.20
42 | 19.62 | 24.43 | 28.46 | 29.91 | 34.04 | 39.60 | 46.09
43 | 19.73 | 24.54 | 28.57 | 30.04 | 34.64 | 40.35 | 46.99
44 | 19.84 | 24.66 | 28.68 | 30.17 | 35.26 | 41.11 | 47.91
45 | 19.95 | 24.78 | 28.79 | 30.30 | 35.86 | 41.88 | 48.81
46 | 20.06 | 24.90 | 28.90 | 30.44 | 36.49 | 42.62 | 49.72
47 | 20.17 | 25.01 | 29.01 | 30.57 | 37.11 | 43.38 | 50.62
48 | 20.28 | 25.13 | 29.12 | 30.71 | 37.71 | 44.14 | 51.53
49 | 20.39 | 25.25 | 29.23 | 31.18 | 38.33 | 44.91 | 52.44
50 | 20.50 | 25.37 | 29.34 | 31.65 | 38.95 | 45.63 | 53.35
51 | 20.61 | 25.49 | 29.45 | 32.12 | 39.57 | 46.44 | 54.26
52 | 20.73 | 25.61 | 29.56 | 32.62 | 40.17 | 47.29 | 55.17
53 | 20.84 | 25.74 | 29.67 | 33.10 | 40.80 | 48.18 | 56.06
54 | 20.96 | 25.86 | 29.79 | 33.58 | 41.40 | 48.36 | 56.98
55 | 21.07 | 25.98 | 29.90 | 34.08 | 42.04 | 49.26 | 57.88
56 | 21.19 | 26.10 | 30.01 | 34.56 | 42.64 | 49.94 | 58.79
57 | 21.30 | 26.23 | 30.13 | 35.04 | 43.28 | 50.68 | 59.71
58 | 21.42 | 26.35 | 30.24 | 35.55 | 43.89 | 51.58 | 60.60
59 | 21.54 | 26.48 | 30.36 | 36.03 | 44.49 | 52.37 | 61.51
60 | 21.66 | 26.60 | 30.47 | 36.51 | 45.13 | 53.15 | 62.44
61 | 21.78 | 26.73 | 30.59 | 37.00 | 45.74 | 53.93 | 63.32
62 | 21.90 | 26.86 | 30.70 | 37.50 | 46.35 | 54.72 | 64.23
63 | 22.02 | 26.98 | 30.93 | 37.99 | 46.99 | 55.47 | 65.15
64 | 22.14 | 27.11 | 31.30 | 38.46 | 47.60 | 56.26 | 66.03
65 | 22.26 | 27.24 | 31.64 | 38.95 | 48.22 | 56.81 | 66.94
66 | 22.48 | 27.37 | 32.02 | 39.47 | 48.86 | 57.59 | 67.85
67 | 22.71 | 27.50 | 32.36 | 39.95 | 49.47 | 58.38 | 68.74
68 | 22.93 | 27.63 | 32.74 | 40.44 | 50.56 | 59.18 | 69.64
69 | 23.34 | 27.76 | 33.51 | 41.36 | 51.32 | 60.26 | 70.74
70 | 24.04 | 27.89 | 34.28 | 42.29 | 52.09 | 61.35 | 71.84
Oversized | 62.42 | 65.30 | 66.60 | 68.57 | 91.83 | 97.79 | 108.23

Balloon Price

Pieces exceeding 84 inches in length and girth combined (but not more than 108 inches) and weighing less than 20 pounds are subject to a price equal to that for a 20-pound parcel for the zone to which the parcel is addressed.

Oversized Pieces

Regardless of weight, any piece that measures more than 108 inches (but not more than 130 inches) in length plus girth must pay the oversized price.

Pickup On Demand Service

2300 International Products

* * * * *

2303 Outbound Single-Piece First-Class Package International Service

* * * * *

2303.4 Price Categories

The following price categories are available for the product specified in this section:

• Packages: Small Packets, including Rolls

• Price Groups 1-9

• Commercial Base—For selected destination countries, available for customers who prepare and pay for First-Class Package International Service shipments via permit imprint when used in conjunction with Postal Service-supplied or other approved software that electronically transmits Customs-related functions, online at USPS.com, or by using an authorized PC Postage vendor. The discount applies only to the postage portion of First-Class Package International Service prices.

• Commercial Plus—For selected destination countries, available for customers who use specifically authorized postage payment methods and must tender at least $100,000 per year of any combination of Express Mail International, Global Express Guaranteed, Priority Mail International, or First-Class Package International Service items. The discount applies only to the postage portion of First-Class Package International Service prices.

• Fee for Return of Undeliverable as Addressed Outbound U.S. Origin Mail Posted through a Foreign Postal Administration or Operator—A fee is charged for the return of an undeliverable-as-addressed Outbound Single-Piece First-Class Package International Service item bearing a U.S. return address which was originally posted to an international addressee through a foreign postal administration, consolidator, or operator.

* * * * *

2303.6 Prices

First-Class Package International Service Retail Prices
Maximum weight (ounces) | Country price group: 1 ($) | Country price group: 2 ($) | Country price group: 3 ($) | Country price group: 4 ($) | Country price group: 5 ($) | Country price group: 6 ($) | Country price group: 7 ($) | Country price group: 8 ($) | Country price group: 9 ($)
1 | 6.55 | 6.55 | 6.55 | 6.55 | 6.55 | 6.55 | 6.55 | 6.55 | 6.55
2 | 6.55 | 6.55 | 6.55 | 6.55 | 6.55 | 6.55 | 6.55 | 6.55 | 6.55
3 | 7.35 | 8.85 | 9.45 | 9.45 | 9.45 | 9.15 | 9.15 | 9.15 | 9.15
4 | 7.35 | 8.85 | 9.45 | 9.45 | 9.45 | 9.15 | 9.15 | 9.15 | 9.15
5 | 8.55 | 11.55 | 12.75 | 12.75 | 12.75 | 12.15 | 12.15 | 12.15 | 12.15
6 | 8.55 | 11.55 | 12.75 | 12.75 | 12.75 | 12.15 | 12.15 | 12.15 | 12.15
7 | 8.55 | 11.55 | 12.75 | 12.75 | 12.75 | 12.15 | 12.15 | 12.15 | 12.15
8 | 8.55 | 11.55 | 12.75 | 12.75 | 12.75 | 12.15 | 12.15 | 12.15 | 12.15
12 | 9.15 | 13.50 | 14.90 | 14.90 | 14.90 | 14.30 | 14.30 | 14.30 | 14.30
16 | 10.55 | 15.05 | 16.75 | 16.75 | 16.75 | 16.25 | 16.25 | 16.25 | 16.25
20 | 11.95 | 16.60 | 18.60 | 18.60 | 18.60 | 18.20 | 18.20 | 18.20 | 18.20
24 | 13.35 | 18.15 | 20.45 | 20.45 | 20.45 | 20.15 | 20.15 | 20.15 | 20.15
28 | 14.75 | 19.70 | 22.30 | 22.30 | 22.30 | 22.10 | 22.10 | 22.10 | 22.10
32 | 16.15 | 21.25 | 24.15 | 24.15 | 24.15 | 24.05 | 24.05 | 24.05 | 24.05
36 | 17.55 | 22.80 | 26.00 | 26.00 | 26.00 | 26.00 | 26.00 | 26.00 | 26.00
40 | 18.95 | 24.35 | 27.85 | 27.85 | 27.85 | 27.95 | 27.95 | 27.95 | 27.95
44 | 20.35 | 25.90 | 29.70 | 29.70 | 29.70 | 29.90 | 29.90 | 29.90 | 29.90
48 | 21.75 | 27.45 | 31.55 | 31.55 | 31.55 | 31.85 | 31.85 | 31.85 | 31.85
52 | 23.15 | 29.00 | 33.40 | 33.40 | 33.40 | 33.80 | 33.80 | 33.80 | 33.80
56 | 24.55 | 30.55 | 35.25 | 35.25 | 35.25 | 35.75 | 35.75 | 35.75 | 35.75
60 | 25.95 | 32.10 | 37.10 | 37.10 | 37.10 | 37.70 | 37.70 | 37.70 | 37.70
64 | 27.35 | 33.65 | 38.95 | 38.95 | 38.95 | 39.65 | 39.65 | 39.65 | 39.65

First-Class Package International Service Commercial Base Prices
Maximum weight (ounces) | Country price group: 1 ($) | Country price group: 2 ($) | Country price group: 3 ($) | Country price group: 4 ($) | Country price group: 5 ($) | Country price group: 6 ($) | Country price group: 7 ($) | Country price group: 8 ($) | Country price group: 9 ($)
1 | 6.16 | 6.16 | 6.16 | 6.16 | 6.16 | 6.16 | 6.16 | 6.16 | 6.16
2 | 6.16 | 6.16 | 6.16 | 6.16 | 6.16 | 6.16 | 6.16 | 6.16 | 6.16
3 | 6.91 | 8.32 | 8.88 | 8.88 | 8.88 | 8.60 | 8.60 | 8.60 | 8.60
4 | 6.91 | 8.32 | 8.88 | 8.88 | 8.88 | 8.60 | 8.60 | 8.60 | 8.60
5 | 7.70 | 10.40 | 11.48 | 11.48 | 11.48 | 10.94 | 10.94 | 10.94 | 10.94
6 | 7.70 | 10.40 | 11.48 | 11.48 | 11.48 | 10.94 | 10.94 | 10.94 | 10.94
7 | 7.70 | 10.40 | 11.48 | 11.48 | 11.48 | 10.94 | 10.94 | 10.94 | 10.94
8 | 7.70 | 10.40 | 11.48 | 11.48 | 11.48 | 10.94 | 10.94 | 10.94 | 10.94
12 | 8.24 | 12.15 | 13.41 | 13.41 | 13.41 | 12.87 | 12.87 | 12.87 | 12.87
16 | 9.50 | 13.55 | 15.08 | 15.08 | 15.08 | 14.63 | 14.63 | 14.63 | 14.63
20 | 10.76 | 14.94 | 16.74 | 16.74 | 16.74 | 16.38 | 16.38 | 16.38 | 16.38
24 | 12.02 | 16.34 | 18.41 | 18.41 | 18.41 | 18.14 | 18.14 | 18.14 | 18.14
28 | 13.28 | 17.73 | 20.07 | 20.07 | 20.07 | 19.89 | 19.89 | 19.89 | 19.89
32 | 14.54 | 19.13 | 21.74 | 21.74 | 21.74 | 21.65 | 21.65 | 21.65 | 21.65
36 | 15.80 | 20.52 | 23.40 | 23.40 | 23.40 | 23.40 | 23.40 | 23.40 | 23.40
40 | 17.06 | 21.92 | 25.07 | 25.07 | 25.07 | 25.16 | 25.16 | 25.16 | 25.16
44 | 18.32 | 23.31 | 26.73 | 26.73 | 26.73 | 26.91 | 26.91 | 26.91 | 26.91
48 | 19.58 | 24.71 | 28.40 | 28.40 | 28.40 | 28.67 | 28.67 | 28.67 | 28.67
52 | 20.84 | 26.10 | 30.06 | 30.06 | 30.06 | 30.42 | 30.42 | 30.42 | 30.42
56 | 22.10 | 27.50 | 31.73 | 31.73 | 31.73 | 32.18 | 32.18 | 32.18 | 32.18
60 | 23.36 | 28.89 | 33.39 | 33.39 | 33.39 | 33.93 | 33.93 | 33.93 | 33.93
64 | 24.62 | 30.29 | 35.06 | 35.06 | 35.06 | 35.69 | 35.69 | 35.69 | 35.69

First-Class Package International Service Commercial Plus Prices
Maximum weight (ounces) | Country price group: 1 ($) | Country price group: 2 ($) | Country price group: 3 ($) | Country price group: 4 ($) | Country price group: 5 ($) | Country price group: 6 ($) | Country price group: 7 ($) | Country price group: 8 ($) | Country price group: 9 ($)
1 | 6.03 | 6.03 | 6.03 | 6.03 | 6.03 | 6.03 | 6.03 | 6.03 | 6.03
2 | 6.03 | 6.03 | 6.03 | 6.03 | 6.03 | 6.03 | 6.03 | 6.03 | 6.03
3 | 6.76 | 8.14 | 8.69 | 8.69 | 8.69 | 8.42 | 8.42 | 8.42 | 8.42
4 | 6.76 | 8.14 | 8.69 | 8.69 | 8.69 | 8.42 | 8.42 | 8.42 | 8.42
5 | 7.27 | 9.82 | 10.84 | 10.84 | 10.84 | 10.33 | 10.33 | 10.33 | 10.33
6 | 7.27 | 9.82 | 10.84 | 10.84 | 10.84 | 10.33 | 10.33 | 10.33 | 10.33
7 | 7.27 | 9.82 | 10.84 | 10.84 | 10.84 | 10.33 | 10.33 | 10.33 | 10.33
8 | 7.27 | 9.82 | 10.84 | 10.84 | 10.84 | 10.33 | 10.33 | 10.33 | 10.33
12 | 7.78 | 11.48 | 12.67 | 12.67 | 12.67 | 12.16 | 12.16 | 12.16 | 12.16
16 | 8.97 | 12.79 | 14.24 | 14.24 | 14.24 | 13.81 | 13.81 | 13.81 | 13.81
20 | 10.16 | 14.11 | 15.81 | 15.81 | 15.81 | 15.47 | 15.47 | 15.47 | 15.47
24 | 11.35 | 15.43 | 17.38 | 17.38 | 17.38 | 17.13 | 17.13 | 17.13 | 17.13
28 | 12.54 | 16.75 | 18.96 | 18.96 | 18.96 | 18.79 | 18.79 | 18.79 | 18.79
32 | 13.73 | 18.06 | 20.53 | 20.53 | 20.53 | 20.44 | 20.44 | 20.44 | 20.44
36 | 14.92 | 19.38 | 22.10 | 22.10 | 22.10 | 22.10 | 22.10 | 22.10 | 22.10
40 | 16.11 | 20.70 | 23.67 | 23.67 | 23.67 | 23.76 | 23.76 | 23.76 | 23.76
44 | 17.30 | 22.02 | 25.25 | 25.25 | 25.25 | 25.42 | 25.42 | 25.42 | 25.42
48 | 18.49 | 23.33 | 26.82 | 26.82 | 26.82 | 27.07 | 27.07 | 27.07 | 27.07
52 | 19.68 | 24.65 | 28.39 | 28.39 | 28.39 | 28.73 | 28.73 | 28.73 | 28.73
56 | 20.87 | 25.97 | 29.96 | 29.96 | 29.96 | 30.39 | 30.39 | 30.39 | 30.39
60 | 22.06 | 27.29 | 31.54 | 31.54 | 31.54 | 32.05 | 32.05 | 32.05 | 32.05
64 | 23.25 | 28.60 | 33.11 | 33.11 | 33.11 | 33.70 | 33.70 | 33.70 | 33.70

Outbound Single-Piece First Class Package International Service Promotional Sale

The Postal Service may offer a promotion in the form of a discount or rebate on certain Outbound Single-Piece First-Class Package International Service, during an established promotional period, to mailers that comply with the eligibility requirements of the promotional program.

Notes

1. Electronic USPS Delivery Confirmation® International, which is optionally provided at no charge, offers scan events for customers using select software or online tools. It is available for First-Class Package International Service mailpieces meeting certain physical characteristics to select destinations.

* * * * *

2305 Outbound International Expedited Services

* * * * *

2305.2 Size and Weight Limitations

* * * * *

* * * * *

2305.4 Price Categories

* * * * *

Global Express Guaranteed

* * * * *

• Commercial Plus—For selected destination countries, available for customers who use specifically authorized postage payment methods and must tender at least $100,000 per year of any combination of Global Express Guaranteed, Express Mail International, or Priority Mail International, or First-Class Package International Service items. The discount applies only to the postage portion of Global Express Guaranteed prices.

Express Mail International

* * * * *

* * * * *

2305.6 Prices

Global Express Guaranteed

The price for Global Express Guaranteed service is based on the actual weight or the dimensional weight of the item, whichever is greater, except for Postal Service produced Global Express Guaranteed envelopes, in which case, the postage is based on the actual weight. See the International Mail Manual for the calculation of dimensional weight.

Global Express Guaranteed Retail Prices
Weight not over (lb.) | Price groups: 1 | Price groups: 2 | Price groups: 3 | Price groups: 4 | Price groups: 5 | Price groups: 6 | Price groups: 7 | Price groups: 8
0.5 | $49.95 | $55.00 | $64.00 | $104.50 | $70.00 | $74.00 | $55.00 | $86.00
1 | 58.95 | 60.15 | 72.45 | 118.75 | 81.25 | 84.25 | 65.35 | 96.75
2 | 63.10 | 65.50 | 78.10 | 131.90 | 87.00 | 90.90 | 73.70 | 108.70
3 | 67.25 | 70.85 | 83.75 | 145.05 | 92.75 | 97.55 | 82.05 | 120.65
4 | 71.40 | 76.20 | 89.40 | 158.20 | 98.50 | 104.20 | 90.40 | 132.60
5 | 75.55 | 81.55 | 95.05 | 171.35 | 104.25 | 110.85 | 98.75 | 144.55
6 | 79.70 | 86.60 | 100.00 | 184.30 | 110.00 | 117.20 | 104.20 | 156.00
7 | 83.85 | 91.65 | 104.95 | 197.25 | 115.75 | 123.55 | 109.65 | 167.45
8 | 88.00 | 96.70 | 109.90 | 210.20 | 121.50 | 129.90 | 115.10 | 178.90
9 | 92.15 | 101.75 | 114.85 | 223.15 | 127.25 | 136.25 | 120.55 | 190.35
10 | 96.30 | 106.80 | 119.80 | 236.10 | 133.00 | 142.60 | 126.00 | 201.80
11 | 100.45 | 110.05 | 123.95 | 249.05 | 137.25 | 148.45 | 130.35 | 210.65
12 | 104.60 | 113.30 | 128.10 | 262.00 | 141.50 | 154.30 | 134.70 | 219.50
13 | 108.75 | 116.55 | 132.25 | 274.95 | 145.75 | 160.15 | 139.05 | 228.35
14 | 112.90 | 119.80 | 136.40 | 287.90 | 150.00 | 166.00 | 143.40 | 237.20
15 | 117.05 | 123.05 | 140.55 | 300.85 | 154.25 | 171.85 | 147.75 | 246.05
16 | 121.20 | 126.30 | 144.70 | 313.80 | 158.50 | 177.70 | 152.10 | 254.90
17 | 125.35 | 129.55 | 148.85 | 326.75 | 162.75 | 183.55 | 156.45 | 263.75
18 | 129.50 | 132.80 | 153.00 | 339.70 | 167.00 | 189.40 | 160.80 | 272.60
19 | 133.65 | 136.05 | 157.15 | 352.65 | 171.25 | 195.25 | 165.15 | 281.45
20 | 137.80 | 139.30 | 161.30 | 365.60 | 175.50 | 201.10 | 169.50 | 290.30
21 | 141.95 | 141.55 | 165.45 | 376.05 | 179.75 | 206.95 | 173.85 | 299.15
22 | 146.10 | 143.80 | 169.60 | 386.50 | 184.00 | 212.80 | 178.20 | 308.00
23 | 150.25 | 146.05 | 173.75 | 396.95 | 188.25 | 218.65 | 182.55 | 316.85
24 | 154.40 | 148.30 | 177.90 | 407.40 | 192.50 | 224.50 | 186.90 | 325.70
25 | 158.55 | 150.55 | 182.05 | 417.85 | 196.75 | 230.35 | 191.25 | 334.55
26 | 162.70 | 152.80 | 186.20 | 428.30 | 201.00 | 236.20 | 195.60 | 343.40
27 | 166.85 | 155.05 | 190.35 | 438.75 | 205.25 | 242.05 | 199.95 | 352.25
28 | 171.00 | 157.30 | 194.50 | 449.20 | 209.50 | 247.90 | 204.30 | 361.10
29 | 175.15 | 159.55 | 198.65 | 459.65 | 213.75 | 253.75 | 208.65 | 369.95
30 | 179.30 | 161.80 | 202.80 | 470.10 | 218.00 | 259.60 | 213.00 | 378.80
31 | 183.45 | 164.05 | 206.95 | 480.55 | 222.25 | 265.45 | 217.35 | 387.65
32 | 187.60 | 166.30 | 211.10 | 491.00 | 226.50 | 271.30 | 221.70 | 396.50
33 | 191.75 | 168.55 | 215.25 | 501.45 | 230.75 | 277.15 | 226.05 | 405.35
34 | 195.90 | 170.80 | 219.40 | 511.90 | 235.00 | 283.00 | 230.40 | 414.20
35 | 200.05 | 173.05 | 223.55 | 522.35 | 239.25 | 288.85 | 234.75 | 423.05
36 | 204.20 | 175.30 | 227.70 | 532.80 | 243.50 | 294.70 | 239.10 | 431.90
37 | 208.35 | 177.55 | 231.85 | 543.25 | 247.75 | 300.55 | 243.45 | 440.75
38 | 212.50 | 179.80 | 236.00 | 553.70 | 252.00 | 306.40 | 247.80 | 449.60
39 | 216.65 | 182.05 | 240.15 | 564.15 | 256.25 | 312.25 | 252.15 | 458.45
40 | 220.80 | 184.30 | 244.30 | 574.60 | 260.50 | 318.10 | 256.50 | 467.30
41 | 224.25 | 186.55 | 248.45 | 585.05 | 264.75 | 323.95 | 260.85 | 476.15
42 | 227.70 | 188.80 | 252.60 | 595.50 | 269.00 | 329.80 | 265.20 | 485.00
43 | 231.15 | 191.05 | 256.75 | 605.95 | 273.25 | 335.65 | 269.55 | 493.85
44 | 234.60 | 193.30 | 260.90 | 616.40 | 277.50 | 341.50 | 273.90 | 502.70
45 | 238.05 | 195.55 | 265.05 | 626.85 | 281.75 | 347.35 | 278.25 | 511.55
46 | 241.50 | 197.80 | 269.20 | 637.30 | 286.00 | 353.20 | 282.60 | 520.40
47 | 244.95 | 200.05 | 273.35 | 647.75 | 290.25 | 359.05 | 286.95 | 529.25
48 | 248.40 | 202.30 | 277.50 | 658.20 | 294.50 | 364.90 | 291.30 | 538.10
49 | 251.85 | 204.55 | 281.65 | 668.65 | 298.75 | 370.75 | 295.65 | 546.95
50 | 255.30 | 206.80 | 285.80 | 679.10 | 303.00 | 376.60 | 300.00 | 555.80
51 | 258.75 | 209.05 | 289.95 | 689.55 | 307.25 | 382.45 | 304.35 | 564.65
52 | 262.20 | 211.30 | 294.10 | 700.00 | 311.50 | 388.30 | 308.70 | 573.50
53 | 265.65 | 213.55 | 298.25 | 710.45 | 315.75 | 394.15 | 313.05 | 582.35
54 | 269.10 | 215.80 | 302.40 | 720.90 | 320.00 | 400.00 | 317.40 | 591.20
55 | 272.55 | 218.05 | 306.55 | 731.35 | 324.25 | 405.85 | 321.75 | 600.05
56 | 276.00 | 220.30 | 310.70 | 741.80 | 328.50 | 411.70 | 326.10 | 608.90
57 | 279.45 | 222.55 | 314.85 | 752.25 | 332.75 | 417.55 | 330.45 | 617.75
58 | 282.90 | 224.80 | 319.00 | 762.70 | 337.00 | 423.40 | 334.80 | 626.60
59 | 286.35 | 227.05 | 323.15 | 773.15 | 341.25 | 429.25 | 339.15 | 635.45
60 | 289.80 | 229.30 | 327.30 | 783.60 | 345.50 | 435.10 | 343.50 | 644.30
61 | 293.25 | 231.55 | 331.45 | 794.05 | 349.75 | 440.95 | 347.85 | 653.15
62 | 296.70 | 233.80 | 335.60 | 804.50 | 354.00 | 446.80 | 352.20 | 662.00
63 | 300.15 | 236.05 | 339.75 | 814.95 | 358.25 | 452.65 | 356.55 | 670.85
64 | 303.60 | 238.30 | 343.90 | 825.40 | 362.50 | 458.50 | 360.90 | 679.70
65 | 307.05 | 240.55 | 348.05 | 835.85 | 366.75 | 464.35 | 365.25 | 688.55
66 | 310.50 | 242.80 | 352.20 | 846.30 | 371.00 | 470.20 | 369.60 | 697.40
67 | 313.95 | 245.05 | 356.35 | 856.75 | 375.25 | 476.05 | 373.95 | 706.25
68 | 317.40 | 247.30 | 360.50 | 867.20 | 379.50 | 481.90 | 378.30 | 715.10
69 | 320.85 | 249.55 | 364.65 | 877.65 | 383.75 | 487.75 | 382.65 | 723.95
70 | 324.30 | 251.80 | 368.80 | 888.10 | 388.00 | 493.60 | 387.00 | 732.80

Global Express Guaranteed Commercial Base Prices
Weight not over (lb). | Price groups: 1 | Price groups: 2 | Price groups: 3 | Price groups: 4 | Price groups: 5 | Price groups: 6 | Price groups: 7 | Price groups: 8
0.5 | $47.45 | $52.25 | $60.80 | $99.28 | $66.50 | $70.30 | $52.25 | $81.70
1 | 55.41 | 56.54 | 68.10 | 111.63 | 76.38 | 79.20 | 61.91 | 90.95
2 | 58.43 | 60.23 | 70.29 | 118.71 | 78.30 | 81.81 | 67.95 | 97.83
3 | 63.46 | 66.92 | 75.38 | 130.55 | 83.54 | 87.80 | 74.16 | 108.59
4 | 67.03 | 70.97 | 81.92 | 142.38 | 90.26 | 93.78 | 81.36 | 119.34
5 | 68.94 | 76.35 | 88.60 | 154.22 | 95.42 | 99.77 | 88.88 | 130.10
6 | 70.37 | 81.38 | 92.48 | 162.18 | 100.64 | 103.14 | 93.80 | 137.28
7 | 73.79 | 86.43 | 96.55 | 173.58 | 105.35 | 108.72 | 98.84 | 147.54
8 | 77.44 | 91.80 | 100.58 | 184.98 | 110.88 | 114.31 | 103.69 | 159.15
9 | 81.09 | 95.03 | 105.06 | 196.37 | 117.41 | 119.90 | 107.21 | 170.25
10 | 84.74 | 98.42 | 109.58 | 207.77 | 121.94 | 125.49 | 111.29 | 181.53
11 | 88.40 | 102.64 | 112.25 | 219.16 | 127.48 | 130.64 | 114.71 | 192.61
12 | 92.05 | 107.19 | 114.94 | 230.56 | 132.03 | 135.78 | 118.54 | 203.34
13 | 95.70 | 108.61 | 119.93 | 241.96 | 136.10 | 140.93 | 122.36 | 214.16
14 | 99.35 | 111.67 | 124.14 | 253.35 | 140.96 | 147.45 | 129.03 | 223.96
15 | 103.00 | 114.75 | 127.79 | 264.75 | 144.68 | 153.46 | 133.32 | 234.41
16 | 106.66 | 118.47 | 131.64 | 276.14 | 150.22 | 158.72 | 137.57 | 244.06
17 | 110.31 | 122.04 | 135.58 | 287.54 | 154.18 | 163.95 | 141.99 | 253.01
18 | 113.96 | 124.93 | 139.19 | 298.94 | 157.72 | 168.57 | 146.27 | 261.15
19 | 117.61 | 126.96 | 143.04 | 310.33 | 161.64 | 173.84 | 151.37 | 269.31
20 | 121.26 | 128.82 | 146.95 | 321.73 | 165.93 | 178.47 | 158.81 | 277.63
21 | 124.92 | 130.35 | 151.58 | 330.92 | 170.39 | 183.20 | 162.07 | 286.77
22 | 128.57 | 130.63 | 154.83 | 340.80 | 176.11 | 187.82 | 164.35 | 295.57
23 | 132.22 | 132.70 | 158.44 | 349.32 | 178.21 | 192.96 | 166.32 | 303.40
24 | 135.87 | 134.86 | 161.20 | 358.51 | 180.13 | 197.56 | 167.36 | 311.39
25 | 139.52 | 137.03 | 163.50 | 367.71 | 182.05 | 202.71 | 168.40 | 318.85
26 | 143.18 | 140.43 | 169.22 | 376.90 | 189.79 | 207.86 | 180.73 | 326.87
27 | 146.83 | 145.13 | 172.08 | 386.10 | 193.15 | 213.00 | 184.19 | 334.85
28 | 150.48 | 148.04 | 175.76 | 395.30 | 197.08 | 218.15 | 186.19 | 342.83
29 | 154.13 | 149.95 | 178.56 | 404.49 | 201.17 | 223.30 | 188.23 | 349.50
30 | 157.78 | 151.55 | 182.38 | 413.69 | 204.92 | 228.45 | 192.58 | 356.50
31 | 161.44 | 152.96 | 185.57 | 422.88 | 208.64 | 233.60 | 196.94 | 363.01
32 | 165.09 | 153.73 | 190.15 | 432.71 | 212.74 | 238.74 | 204.53 | 369.85
33 | 168.74 | 155.31 | 193.44 | 441.70 | 216.84 | 243.89 | 208.46 | 376.85
34 | 172.39 | 156.24 | 196.85 | 450.99 | 220.75 | 249.04 | 211.73 | 383.35
35 | 176.04 | 157.66 | 200.41 | 459.97 | 224.68 | 254.19 | 216.17 | 389.86
36 | 179.70 | 158.59 | 203.62 | 469.28 | 228.24 | 259.34 | 218.42 | 396.70
37 | 183.35 | 160.33 | 207.25 | 478.06 | 232.14 | 264.48 | 222.52 | 403.03
38 | 187.00 | 161.93 | 210.25 | 487.26 | 235.88 | 269.63 | 226.47 | 409.73
39 | 190.65 | 163.68 | 214.13 | 496.45 | 239.79 | 274.78 | 231.05 | 416.73
40 | 194.30 | 166.41 | 216.89 | 505.65 | 243.35 | 279.93 | 235.18 | 423.23
41 | 197.34 | 168.16 | 220.87 | 514.84 | 247.26 | 285.08 | 239.28 | 429.74
42 | 200.38 | 170.40 | 223.28 | 524.04 | 251.36 | 290.22 | 243.54 | 436.24
43 | 203.41 | 172.16 | 226.77 | 533.24 | 255.46 | 295.37 | 247.47 | 442.91
44 | 206.45 | 174.41 | 229.59 | 542.43 | 259.56 | 300.52 | 251.74 | 449.42
45 | 209.48 | 176.17 | 233.24 | 551.63 | 263.11 | 305.67 | 255.67 | 456.10
46 | 212.52 | 178.23 | 236.90 | 560.82 | 267.02 | 310.82 | 260.45 | 461.46
47 | 215.56 | 180.80 | 240.55 | 570.02 | 270.96 | 315.96 | 264.37 | 468.31
48 | 218.59 | 182.89 | 244.20 | 579.22 | 274.68 | 321.11 | 268.82 | 474.81
49 | 221.63 | 185.30 | 247.85 | 588.41 | 278.60 | 326.26 | 270.84 | 481.32
50 | 224.66 | 187.05 | 251.50 | 597.61 | 282.14 | 331.41 | 272.87 | 489.10
51 | 227.70 | 188.86 | 255.16 | 606.80 | 282.45 | 336.56 | 281.53 | 499.58
52 | 230.74 | 190.71 | 258.81 | 616.00 | 290.53 | 341.70 | 284.88 | 504.68
53 | 233.77 | 192.47 | 262.46 | 625.20 | 290.82 | 346.85 | 289.73 | 513.07
54 | 236.81 | 194.22 | 266.11 | 634.39 | 295.28 | 352.00 | 292.59 | 520.26
55 | 239.84 | 195.96 | 269.76 | 643.59 | 299.38 | 357.15 | 296.26 | 528.04
56 | 242.88 | 197.71 | 273.42 | 652.78 | 303.48 | 362.30 | 299.96 | 535.83
57 | 245.92 | 199.46 | 277.07 | 661.98 | 307.57 | 367.44 | 303.64 | 543.62
58 | 248.95 | 201.22 | 280.72 | 671.18 | 311.67 | 372.59 | 307.32 | 551.41
59 | 251.99 | 203.04 | 284.37 | 680.37 | 315.95 | 377.74 | 313.23 | 559.20
60 | 255.02 | 204.88 | 288.02 | 689.57 | 324.41 | 382.89 | 315.53 | 566.98
61 | 258.06 | 206.55 | 291.68 | 698.76 | 324.68 | 388.04 | 320.88 | 574.77
62 | 261.10 | 208.22 | 295.33 | 707.96 | 332.59 | 393.18 | 323.05 | 582.56
63 | 264.13 | 209.97 | 298.98 | 717.16 | 332.89 | 398.33 | 328.54 | 590.35
64 | 267.17 | 211.72 | 302.63 | 726.35 | 340.62 | 403.48 | 330.93 | 598.14
65 | 270.20 | 213.54 | 306.28 | 735.55 | 340.91 | 408.63 | 336.55 | 605.92
66 | 273.24 | 215.38 | 309.94 | 744.74 | 348.80 | 413.78 | 338.79 | 613.71
67 | 276.28 | 217.13 | 313.59 | 753.94 | 349.10 | 418.92 | 344.40 | 621.50
68 | 279.31 | 218.89 | 317.24 | 763.14 | 357.19 | 424.07 | 346.33 | 629.29
69 | 282.35 | 220.39 | 320.89 | 772.33 | 357.48 | 429.22 | 352.57 | 637.08
70 | 285.38 | 221.89 | 324.54 | 781.53 | 365.03 | 434.37 | 354.04 | 644.86

Global Express Guaranteed Commercial Plus Prices
Weight not over (lb). | GXG Price groups: 1 | GXG Price groups: 2 | GXG Price groups: 3 | GXG Price groups: 4 | GXG Price groups: 5 | GXG Price groups: 6 | GXG Price groups: 7 | GXG Price groups: 8
0.5 | $43.96 | $48.40 | $56.32 | $91.96 | $61.60 | $65.12 | $48.40 | $75.68
1 | 51.88 | 52.93 | 63.76 | 104.50 | 71.50 | 74.14 | 57.51 | 85.14
2 | 54.26 | 55.93 | 66.39 | 112.12 | 73.95 | 77.27 | 63.10 | 92.40
3 | 58.93 | 62.14 | 71.19 | 123.29 | 78.84 | 82.92 | 69.74 | 102.55
4 | 62.24 | 65.90 | 76.07 | 134.47 | 83.81 | 88.57 | 76.84 | 112.71
5 | 64.22 | 70.90 | 82.28 | 145.65 | 88.61 | 94.22 | 83.94 | 122.87
6 | 66.15 | 75.57 | 85.88 | 152.97 | 93.45 | 97.28 | 87.10 | 129.48
7 | 69.60 | 80.26 | 89.65 | 163.72 | 97.82 | 102.55 | 91.78 | 138.98
8 | 73.04 | 85.24 | 93.39 | 174.47 | 102.96 | 107.82 | 96.29 | 148.49
9 | 76.48 | 88.25 | 97.55 | 185.21 | 109.03 | 113.09 | 100.06 | 158.09
10 | 79.93 | 91.39 | 101.76 | 195.96 | 113.23 | 118.36 | 104.58 | 168.56
11 | 83.37 | 95.31 | 104.23 | 206.71 | 118.37 | 123.21 | 108.19 | 178.85
12 | 86.82 | 99.53 | 106.73 | 217.46 | 122.59 | 128.07 | 111.80 | 188.81
13 | 90.26 | 100.85 | 111.36 | 228.21 | 126.37 | 132.92 | 115.41 | 198.87
14 | 93.71 | 103.70 | 115.28 | 238.96 | 130.89 | 137.78 | 119.81 | 207.96
15 | 97.15 | 106.55 | 118.66 | 249.71 | 134.35 | 142.64 | 123.80 | 217.66
16 | 100.60 | 110.01 | 122.24 | 260.45 | 139.49 | 147.49 | 127.74 | 226.63
17 | 104.04 | 113.32 | 125.89 | 271.20 | 143.17 | 152.35 | 131.85 | 234.93
18 | 107.49 | 116.00 | 129.25 | 281.95 | 146.45 | 157.20 | 135.82 | 242.50
19 | 110.93 | 117.89 | 132.82 | 292.70 | 150.09 | 162.06 | 140.56 | 250.08
20 | 114.37 | 119.62 | 136.46 | 303.45 | 154.08 | 166.91 | 147.47 | 257.80
21 | 117.82 | 121.04 | 140.75 | 312.12 | 158.22 | 171.77 | 150.49 | 266.28
22 | 121.26 | 121.29 | 143.77 | 320.80 | 163.53 | 176.62 | 152.61 | 274.46
23 | 124.71 | 123.22 | 147.12 | 329.47 | 165.48 | 181.48 | 154.44 | 281.72
24 | 128.15 | 125.22 | 149.68 | 338.14 | 167.26 | 186.34 | 155.40 | 289.15
25 | 131.60 | 127.24 | 151.82 | 346.82 | 169.05 | 191.19 | 158.74 | 296.08
26 | 135.04 | 130.40 | 157.13 | 355.49 | 176.24 | 196.05 | 167.82 | 303.52
27 | 138.49 | 134.76 | 159.79 | 364.16 | 179.36 | 200.90 | 171.03 | 310.93
28 | 141.93 | 137.47 | 163.21 | 372.84 | 183.01 | 205.76 | 172.89 | 318.34
29 | 145.37 | 139.24 | 165.81 | 381.51 | 186.80 | 210.61 | 174.78 | 324.53
30 | 148.82 | 140.72 | 169.36 | 390.18 | 190.28 | 215.47 | 178.82 | 331.04
31 | 152.26 | 142.04 | 172.32 | 398.86 | 193.74 | 220.32 | 182.87 | 337.08
32 | 155.71 | 142.74 | 176.57 | 407.53 | 197.54 | 225.18 | 189.92 | 343.43
33 | 159.15 | 144.22 | 179.62 | 416.20 | 201.35 | 230.03 | 193.57 | 349.93
34 | 162.60 | 145.08 | 182.79 | 424.88 | 204.98 | 234.89 | 196.61 | 355.97
35 | 166.04 | 146.40 | 186.09 | 433.55 | 208.63 | 239.75 | 200.73 | 362.02
36 | 169.49 | 147.26 | 189.08 | 442.22 | 211.93 | 244.60 | 202.82 | 368.36
37 | 172.93 | 148.88 | 192.45 | 450.90 | 215.56 | 249.46 | 206.63 | 374.24
38 | 176.38 | 150.36 | 195.88 | 459.57 | 219.03 | 254.31 | 210.29 | 380.46
39 | 179.82 | 151.99 | 199.32 | 468.24 | 222.66 | 259.17 | 214.55 | 386.96
40 | 183.26 | 154.52 | 202.77 | 476.92 | 225.96 | 264.02 | 218.38 | 393.00
41 | 186.13 | 156.15 | 206.21 | 485.59 | 229.60 | 268.88 | 222.19 | 399.05
42 | 188.99 | 158.23 | 209.66 | 494.27 | 233.41 | 273.73 | 226.15 | 405.08
43 | 191.85 | 159.86 | 213.10 | 502.94 | 237.21 | 278.59 | 229.80 | 411.27
44 | 194.72 | 161.95 | 216.55 | 511.61 | 241.02 | 283.45 | 233.76 | 417.32
45 | 197.58 | 163.58 | 219.99 | 520.29 | 244.32 | 288.30 | 237.41 | 424.59
46 | 200.45 | 165.50 | 223.44 | 528.96 | 247.94 | 293.16 | 241.85 | 431.93
47 | 203.31 | 167.89 | 226.88 | 537.63 | 251.61 | 298.01 | 245.49 | 439.28
48 | 206.17 | 169.83 | 230.33 | 546.31 | 255.06 | 302.87 | 249.62 | 446.62
49 | 209.04 | 172.06 | 233.77 | 554.98 | 258.70 | 307.72 | 251.49 | 453.97
50 | 211.90 | 173.69 | 237.21 | 563.65 | 261.99 | 312.58 | 253.38 | 461.31
51 | 214.76 | 175.37 | 240.66 | 572.33 | 262.28 | 317.43 | 261.42 | 468.66
52 | 217.63 | 177.09 | 244.10 | 581.00 | 269.78 | 322.29 | 264.53 | 476.01
53 | 220.49 | 178.72 | 247.55 | 589.67 | 270.05 | 327.14 | 269.03 | 483.35
54 | 223.35 | 180.35 | 250.99 | 598.35 | 274.19 | 332.00 | 271.69 | 490.70
55 | 226.22 | 181.96 | 254.44 | 607.02 | 277.99 | 336.86 | 275.10 | 498.04
56 | 229.08 | 183.59 | 257.88 | 615.69 | 281.80 | 341.71 | 278.53 | 505.39
57 | 231.94 | 185.22 | 261.33 | 624.37 | 285.60 | 346.57 | 281.95 | 512.73
58 | 234.81 | 186.84 | 264.77 | 633.04 | 289.41 | 351.42 | 285.37 | 520.08
59 | 237.67 | 188.54 | 268.21 | 641.71 | 293.38 | 356.28 | 290.86 | 527.42
60 | 240.53 | 190.32 | 271.66 | 650.39 | 301.23 | 361.13 | 292.99 | 534.77
61 | 243.40 | 192.19 | 275.10 | 659.06 | 301.49 | 365.99 | 297.96 | 542.11
62 | 246.26 | 194.05 | 278.55 | 667.74 | 308.83 | 370.84 | 299.98 | 549.46
63 | 249.12 | 195.92 | 281.99 | 676.41 | 309.11 | 375.70 | 305.07 | 556.81
64 | 251.99 | 197.79 | 285.44 | 685.08 | 316.29 | 380.56 | 307.29 | 564.15
65 | 254.85 | 199.66 | 288.88 | 693.76 | 316.56 | 385.41 | 312.51 | 571.50
66 | 257.72 | 201.52 | 292.33 | 702.43 | 323.89 | 390.27 | 314.59 | 578.84
67 | 260.58 | 203.39 | 295.77 | 711.10 | 324.17 | 395.12 | 319.80 | 586.19
68 | 263.44 | 205.26 | 299.22 | 719.78 | 331.68 | 399.98 | 321.59 | 593.53
69 | 266.31 | 207.13 | 302.66 | 728.45 | 331.95 | 404.83 | 327.38 | 600.88
70 | 269.17 | 208.99 | 306.10 | 737.12 | 338.95 | 409.69 | 328.75 | 608.22

Global Express Guaranteed Promotional Sale

The Postal Service may offer a promotion in the form of a discount or rebate on certain Global Express Guaranteed service, during an established promotional program period, to mailers that comply with the eligibility requirements of the promotional program.

Express Mail International: Flat Rate Prices ¹
| Country price group: Canada (price group 1) ($) | Country price group: All other countries (price groups 2 through 17) ($)
Flat Rate Envelope | 34.95 | 44.95
Flat Rate Boxes | 64.95 | 79.95
Note:
1. No additional discount is offered for Commercial Base or Commercial Plus.

Express Mail International Promotional Sales

The Postal Service may offer one or more promotions in the form of a discount or rebate on certain Express Mail International service, which may be available only to certain destinations, during an established promotional program period, to mailers that comply with the eligibility requirements of the promotional program.

Pickup On Demand Service

* * * * *

2315 Outbound Priority Mail International

* * * * *

2315.4 Price Categories

* * * * *

• Commercial Plus—For selected destination countries, available for customers who use specifically authorized postage payment methods and must tender at least $100,000 per year of any combination of Priority Mail International, Express Mail International, Global Express Guaranteed, or First-Class Package International Service items. The discount applies only to the postage portion of Priority Mail International prices.

* * * * *

2315.7 Prices

Priority Mail International Promotional Sale

The Postal Service may offer a promotion in the form of a discount or rebate on certain Priority Mail International items, during an established promotional program period, to mailers that comply with the eligibility requirements of the promotional program.

Pickup On Demand Service

* * * * *

2320 International Priority Airmail (IPA)

* * * * *

2320.6 Prices

International Priority Airmail

The price is determined by adding the applicable per-piece price to the applicable per-pound price. The per-piece price applies to each mailpiece regardless of weight. The per-pound price applies to the net weight (gross weight of the sack minus the tare weight of the sack) of the mail for the specific Country Price Group.

a. Presort Mail (Full Service and ISC Drop Shipment)

i. Per Piece

| Price group: 1 ($) | Price group: 2 ($) | Price group: 3 ($) | Price group: 4 ($) | Price group: 5 ($) | Price group: 6 ($) | Price group: 7 ($) | Price group: 8 ($)
Direct Country Sacks | 0.52 | 0.16 | 0.52 | 0.53 | 0.52 | 0.52 | 0.54 | 0.51

| Price group: 9 ($) | Price group: 10 ($) | Price group: 11 ($) | Price group: 12 ($) | Price group: 13 ($) | Price group: 14 ($) | Price group: 15 ($)
Direct Country Sacks | 0.42 | 0.50 | 0.48 | 0.20 | 0.20 | 0.18 | 0.14
Mixed Country Sacks | — | — | 0.52 | 0.20 | 0.20 | 0.19 | 0.16

ii. Per Pound

| Price group: 1 ($) | Price group: 2 ($) | Price group: 3 ($) | Price group: 4 ($) | Price group: 5 ($) | Price group: 6 ($) | Price group: 7 ($) | Price group: 8 ($)
Direct Country Sacks (Full Service) | 6.14 | 7.37 | 7.58 | 7.92 | 7.72 | 7.66 | 7.91 | 7.52
Direct Country Sacks (ISC Drop Shipment) | 4.17 | 4.62 | 5.63 | 5.96 | 5.78 | 5.71 | 5.91 | 5.58

| Price group: 9 ($) | Price group: 10 ($) | Price group: 11 ($) | Price group: 12 ($) | Price group: 13 ($) | Price group: 14 ($) | Price group: 15 ($)
Direct Country Sacks (Full Service) | 8.45 | 8.32 | 8.03 | 8.34 | 9.31 | 8.23 | 9.14
Direct Country Sacks (ISC Drop Shipment) | 6.34 | 6.24 | 5.80 | 6.22 | 6.15 | 6.27 | 7.20
Mixed Country Sacks (ISC Drop Shipment) |  |  | 6.24 | 6.27 | 6.09 | 6.53 | 7.56

b. Worldwide Nonpresort Mail (Full Service and ISC Drop Shipment)

i. Per Piece

| ($)
Worldwide Nonpresorted Sacks | 0.57

ii. Per Pound

| ($)
Worldwide Nonpresorted Sacks (Full Service) | 10.67
Worldwide Nonpresorted Sacks (ISC Drop Shipment) | 8.40

International Priority Airmail M-Bag

The price is based on the applicable per-pound price. The per-pound price applies to the net weight (gross weight of the sack minus the tare weight of the sack) of the mail for the specific Country Price Group.

a. International Priority Airmail M-Bag (Full Service)

Each M-bag subject to a minimum 11 pound price | Price group: 1 ($) | Price group: 2 ($) | Price group: 3 ($) | Price group: 4 ($) | Price group: 5 ($) | Price group: 6 ($) | Price group: 7 ($) | Price group: 8 ($)
Weight not over 11 pounds | 52.14 | 58.96 | 69.08 | 69.08 | 69.08 | 69.08 | 69.08 | 69.08
For each additional pound or fraction thereof | 4.74 | 5.36 | 6.28 | 6.28 | 6.28 | 6.28 | 6.28 | 6.28

Each M-bag subject to a minimum 11 pound price | Price group: 9 ($) | Price group: 10 ($) | Price group: 11 ($) | Price group: 12 ($) | Price group: 13 ($) | Price group: 14 ($) | Price group: 15 ($)
Weight not over 11 pounds | 91.74 | 86.68 | 69.08 | 78.21 | 75.90 | 84.37 | 83.27
For each additional pound or fraction thereof | 8.34 | 7.88 | 6.28 | 7.11 | 6.90 | 7.67 | 7.57

b. International Priority Airmail M-Bag (ISC Drop Shipment)

Each M-bag subject to a minimum 5 pound price | Price group: 1 ($) | Price group: 2 ($) | Price group: 3 ($) | Price group: 4 ($) | Price group: 5 ($) | Price group: 6 ($) | Price group: 7 ($) | Price group: 8 ($)
Weight not over (pounds)
5 | 19.84 | 25.76 | 31.77 | 31.77 | 31.77 | 31.77 | 31.77 | 31.77
6 | 20.31 | 26.38 | 32.80 | 32.80 | 32.80 | 32.80 | 32.80 | 32.80
7 | 20.78 | 27.00 | 33.83 | 33.83 | 33.83 | 33.83 | 33.83 | 33.83
8 | 21.25 | 27.62 | 34.86 | 34.86 | 34.86 | 34.86 | 34.86 | 34.86
9 | 21.72 | 28.24 | 35.89 | 35.89 | 35.89 | 35.89 | 35.89 | 35.89
10 | 22.19 | 28.86 | 36.92 | 36.92 | 36.92 | 36.92 | 36.92 | 36.92
11 | 22.66 | 29.48 | 37.95 | 37.95 | 37.95 | 37.95 | 37.95 | 37.95
For each additional pound or fraction thereof | 2.06 | 2.68 | 3.45 | 3.45 | 3.45 | 3.45 | 3.45 | 3.45

Each M-bag subject to a minimum price for 5 pounds | Price group: 9 ($) | Price group: 10 ($) | Price group: 11 ($) | Price group: 12 ($) | Price group: 13 ($) | Price group: 14 ($) | Price group: 15 ($)
Weight not over (pounds)
5 | 49.15 | 45.79 | 31.77 | 39.83 | 39.79 | 46.10 | 43.80
6 | 51.06 | 47.60 | 32.80 | 41.02 | 40.62 | 47.29 | 45.19
7 | 52.97 | 49.41 | 33.83 | 42.21 | 41.45 | 48.48 | 46.58
8 | 54.88 | 51.22 | 34.86 | 43.40 | 42.28 | 49.67 | 47.97
9 | 56.79 | 53.03 | 35.89 | 44.59 | 43.11 | 50.86 | 49.36
10 | 58.70 | 54.84 | 36.92 | 45.78 | 43.94 | 52.05 | 50.75
11 | 60.61 | 56.65 | 37.95 | 46.97 | 44.77 | 53.24 | 52.14
For each additional pound or fraction thereof | 5.51 | 5.15 | 3.45 | 4.27 | 4.07 | 4.84 | 4.74

2325 International Surface Air Lift (ISAL)

* * * * *

2325.6 Prices

a. International Surface Air Lift (Full Service and ISC Drop Shipment)

The price is determined by adding the applicable per-piece price to the applicable per-pound price. The per-piece price applies to each mailpiece regardless of weight. The per-pound price applies to the net weight (gross weight of the sack minus the tare weight of the sack) of the mail for the specific price group.

i. Per Piece

| Price group: 1 ($) | Price group: 2 ($) | Price group: 3 ($) | Price group: 4 ($) | Price group: 5 ($) | Price group: 6 ($) | Price group: 7 ($) | Price group: 8 ($)
Direct Country Sacks | 0.47 | 0.15 | 0.46 | 0.48 | 0.48 | 0.48 | 0.49 | 0.45

| Price group: 9 ($) | Price group: 10 ($) | Price group: 11 ($) | Price group: 12 ($) | Price group: 13 ($) | Price group: 14 ($) | Price group: 15 ($)
Direct Country Sacks | 0.37 | 0.45 | 0.43 | 0.18 | 0.18 | 0.16 | 0.13
Mixed Country Sacks |  |  | 0.47 | 0.18 | 0.18 | 0.17 | 0.14

ii. Per Pound

| Price group: 1 ($) | Price group: 2 ($) | Price group: 3 ($) | Price group: 4 ($) | Price group: 5 ($) | Price group: 6 ($) | Price group: 7 ($) | Price group: 8 ($)
Direct Country Sacks (Full Service) | 5.57 | 6.91 | 6.67 | 7.18 | 7.05 | 7.00 | 7.18 | 6.62
Direct Country Sacks (ISC Drop Shipment) | 3.78 | 4.33 | 4.96 | 5.41 | 5.27 | 5.22 | 5.36 | 4.91

| Price group: 9 ($) | Price group: 10 ($) | Price group: 11 ($) | Price group: 12 ($) | Price group: 13 ($) | Price group: 14 ($) | Price group: 15 ($)
Direct Country Sacks (Full Service) | 7.48 | 7.55 | 7.06 | 7.57 | 8.46 | 7.28 | 8.30
Direct Country Sacks (ISC Drop Shipment) | 5.60 | 5.66 | 5.11 | 5.65 | 5.59 | 5.55 | 6.54
Mixed Country Sacks (ISC Drop Shipment) |  |  | 5.66 | 5.68 | 5.53 | 5.75 | 6.65

b. Worldwide Nonpresort Mail (Full Service and ISC Drop Shipment)

i. Per Piece

| ($)
Worldwide Nonpresorted Sacks | 0.52

ii. Per Pound

| ($)
Worldwide Nonpresorted Sacks (Full Service) | 9.62
Worldwide Nonpresorted Sacks (ISC Drop Shipment) | 7.58

International Surface Air Lift M-Bags

The price is based on the applicable per-pound price. The per-pound price applies to the net weight (gross weight of the sack minus the tare weight of the sack) of the mail for the specific price group.

a. International Surface Air Lift M-Bags (Full Service)

Each M-bag subject to a minimum 11 pound price | Price Group: 1 ($) | Price Group: 2 ($) | Price Group: 3 ($) | Price Group: 4 ($) | Price Group: 5 ($) | Price Group: 6 ($) | Price Group: 7 ($) | Price Group: 8 ($)
Weight Not Over 11 Pounds | 18.15 | 19.25 | 22.66 | 22.66 | 22.66 | 22.66 | 22.66 | 22.66
For each additional pound or fraction thereof | 1.65 | 1.75 | 2.06 | 2.06 | 2.06 | 2.06 | 2.06 | 2.06

b. International Surface Air Lift M-Bag ISC (ISC Drop Shipment)

Each M-bag subject to a minimum 5 pound price | Price Group: 1 ($) | Price Group: 2 ($) | Price Group: 3 ($) | Price Group: 4 ($) | Price Group: 5 ($) | Price Group: 6 ($) | Price Group: 7 ($) | Price Group: 8 ($)
Weight not over (pounds) | 16.39 | 14.73 | 11.76 | 11.76 | 11.76 | 11.76 | 11.76 | 11.76
5
6 | 16.50 | 15.30 | 13.10 | 13.10 | 13.10 | 13.10 | 13.10 | 13.10
7 | 16.61 | 15.87 | 14.44 | 14.44 | 14.44 | 14.44 | 14.44 | 14.44
8 | 16.72 | 16.44 | 15.78 | 15.78 | 15.78 | 15.78 | 15.78 | 15.78
9 | 16.83 | 17.01 | 17.12 | 17.12 | 17.12 | 17.12 | 17.12 | 17.12
10 | 16.94 | 17.58 | 18.46 | 18.46 | 18.46 | 18.46 | 18.46 | 18.46
11 | 17.05 | 18.15 | 19.80 | 19.80 | 19.80 | 19.80 | 19.80 | 19.80
For each additional pound or fraction thereof | 1.55 | 1.65 | 1.80 | 1.80 | 1.80 | 1.80 | 1.80 | 1.80

BILLING CODE 7710-12-C

2330 International Direct Sacks—M-Bags

* * * * *

2330.6 Prices

Outbound International Direct Sacks—M-Bags

The price is based on the applicable per-pound price. The per-pound price applies to the net weight (gross weight of the sack minus the tare weight of the sack) of the mail for the specific price group.

Each M-bag subject to a minimum 11 pound price | Price Group ¹: 1 ($) | Price Group ¹: 2 ($) | Price Group ¹: 3 ($) | Price Group ¹: 4 ($) | Price Group ¹: 5 ($) | Price Group ¹: 6 ($) | Price Group ¹: 7 ($) | Price Group ¹: 8 ($) | Price Group ¹: 9 ($)
Weight Not Over 11 Pounds | 36.85 | 34.10 | 66.00 | 53.90 | 43.45 | 63.25 | 54.45 | 52.25 | 51.15
For each additional pound or fraction thereof | 3.35 | 3.10 | 6.00 | 4.90 | 3.95 | 5.75 | 4.95 | 4.75 | 4.65
Notes:
1. Same as Price Groups 1-9 for Single-Piece First-Class Mail International (SPFCMI).

Inbound International Direct Sacks—M-Bags

Payment is made in accordance with Part III of the Universal Postal Convention and associated UPU Letter Post Regulations. This information is available in the Letter Post Manual at www.upu.int.

2600 Special Services

* * * * *

2605 Address Enhancement Services

* * * * *

2605.2 Prices

| ($)
AEC
Per record processed | 0.020
Minimum charge per list | 20.00
AMS API Address Matching System Application Program Interface (per year, per platform) ¹
Developer's Kit, one platform | 4,500.00
Each Additional, per platform | 1,625.00
Resell License, one platform | 19,650.00
Each Additional, per platform | 9,900.00
Additional Database License
Number of Additional Licenses.
1-100 | 2,400.00
101-200 | 4,800.00
201-300 | 7,200.00
301-400 | 9,650.00
401-500 | 12,050.00
501-600 | 14,500.00
601-700 | 16,900.00
701-800 | 19,320.00
801-900 | 21,750.00
901-1,000 | 24,150.00
1,001-10,000 | 31,400.00
10,001-20,000 | 38,650.00
20,001-30,000 | 45,850.00
30,001-40,000 | 53,150.00
RDI API Developer's Kit ¹
Each, per platform | 355.00
Resell License, one platform | 1,400.00
Each Additional, per platform | 735.00
Additional Database
AMS API: DPV, LACSLink and/or eLOT | 11.75
IBIP version of above | 11.75
Additional database, e.g., City-State, ZIP+4, Five-Digit | 11.75
Additional Copies of Database
AMS-API: DPV and LACSLink API | 27.00
eLOT | 9.00
Additional database, e.g., City-State, ZIP+4, Five Digit | 9.00
TIGER/ZIP+4 (per year)
Per State | * 65.00
All States | * 850.00
Notes:
* See AMS Price Table for Single Issues or Additional Copies appearing at end of section 1515.2 above. TIGER/ZIP+4 is not a subscription service, so single issue pricing does not apply.
¹ Above API License Fees prorated during the first year based on the date of the license agreement.

2615 International Ancillary Services

2615.1 International Certificate of Mailing

* * * * *

2615.1.2 Prices

Individual Pieces Prices
| ($)
Original certificate of mailing for listed pieces of ordinary First-Class Package International Service Items or Priority Mail International parcels | 1.20
Three or more pieces individually listed in a firm mailing book or an approved customer provided manifest (per piece) | 0.44
Each additional copy of original certificate of mailing or firm mailing bills (each copy) | 1.20

Multiple Pieces Prices
| ($)
Up to 1,000 identical-weight pieces (one certificate for total number) | 7.05
Each additional 1,000 identical-weight pieces or fraction thereof | 0.85
Duplicate copy | 1.20

2615.2 Outbound Competitive International Registered Mail

* * * * *

2615.2.2 Prices

| ($)
Per Piece | 12.95

2615.3 International Return Receipt

* * * * *

2615.3.2 Prices

Outbound International Return Receipt
| ($)
Per Piece | 3.50

* * * * *

* * * * *

* * * * *

2615.5 International Insurance

* * * * *

2615.5.3 Prices

Outbound International Insurance

* * * * *

b. Express Mail International Merchandise Insurance

($) | ($)
Amount of coverage: |
0.01 to 100.00 | 0.00
100.01 to 200.00 | 0.00
200.01 to 500.00 | 2.35
500.01 to 1,000.00 | 3.85
1,000.01 to 1,500.00 | 5.35
1,500.01 to 2,000.00 | 6.85
2,000.01 to 2,500.00 | 8.35
2,500.01 to 3,000.00 | 9.85
3,000.01 to 3,500.00 | 11.35
3,500.01 to 4,000.00 | 12.85
4,000.01 to 4,500.00 | 14.35
4,500.01 to 5,000.00 | 15.85

2620 International Money Transfer Service—Outbound

* * * * *

2620.3 Prices

International Money Order
| ($)
Per International Money Order | 4.50
Inquiry Fee | 5.75

Vendor Assisted Electronic Money Transfer
| Transfer Amount: Minimum Amount ($) | Transfer Amount: Maximum Amount ($) | Per Transfer ($)
Electronic Money Transfer | 0.00 | 750.00 | 11.00
| 750.01 | 1,500.00 | 16.50
| 1,500.01 | 2,000.00 | 22.00
Refund | 0.00 | 2,000.00 | 26.00
Change of Recipient | 0.00 | 2,000.00 | 12.00

2630 Premium Forwarding Service

* * * * *

2630.2 Prices

| ($)
Enrollment | 15.00
Weekly Reshipment | 17.00

* * * * *

2635 Shipping and Mailing Supplies

* * * * *

2635.2 Prices¹

| ($)
Mailers | 0.39 to 25.00.
Cartons | 0.99 to 25.00.
Supplies | 0.49 to 14.65.
Shipping Fees | 0.00 to 25.00.
Notes
¹ Minimum price applies to average price paid per item when multiple items are purchased together.

* * * * *

2645 Competitive Ancillary Services

2645.1 Adult Signature

* * * * *

2645.1.2 Prices

| ($)
Adult Signature Required | 4.95
Adult Signature Restricted Delivery | 5.15

[FR Doc. 2012-25679 Filed 10-19-12; 8:45 am]

BILLING CODE 7710-12-P